PENSION BENEFIT GUARANTY CORPORATION

Privacy Act of 1974; Systems of Records

AGENCY: Pension Benefit Guaranty Corporation.

ACTION: Notice of modified systems of records.

SUMMARY: Pursuant to the Privacy Act of 1974, the Pension Benefit Guaranty Corporation (PBGC) is proposing numerous amendments to all system of records notices (SORN). There are amendments affecting multiple SORNs and amendments to specific SORNs.

DATES: Comments must be received on or before October 9, 2024 to be assured of consideration. The new systems of records described herein will become effective October 9, 2024, without further notice, unless comments result in a contrary determination and a notice is published to that effect.

ADDRESSES: You may submit written comments to PBGC by any of the following methods:

• Federal eRulemaking Portal: https://www.regulations.gov. Follow the website instructions for submitting comments.

• Email: reg.comments@pbgc.gov. Refer to SORN in the subject line.

• Mail or Hand Delivery: Regulatory Affairs Division, Office of the General Counsel, Pension Benefit Guaranty Corporation, 445 12th Street SW, Washington, DC, 20024-2101.

Commenters are strongly encouraged to submit comments electronically. Commenters who submit comments on paper by mail should allow sufficient time for mailed comments to be received before the close of the comment period.

All submissions must include the agency's name (Pension Benefit Guaranty Corporation, or PBGC) and reference this notice. Comments received will be posted without change to PBGC's website, http://www.pbgc.gov, including any personal information provided. Do not submit comments that include any personally identifiable information or confidential business information. Copies of comments may also be obtained by writing to the Disclosure Division, (disclosure@pbgc.gov), Office of the General Counsel, Pension Benefit Guaranty Corporation, 445 12th Street SW, Washington, DC, 20024-2101; or calling 202-229-4040 during normal business hours. If you are deaf or hard of hearing, or have a speech disability, please dial 7-1-1 to access telecommunications relay services.

FOR FURTHER INFORMATION CONTACT: Shawn Hartley, Chief Privacy Officer, Pension Benefit Guaranty Corporation, Office of the General Counsel, 445 12th Street SW, Washington, DC, 20024-2101, 202-229-6321. For access to any of PBGC's systems of records, write to the Disclosure Division, (disclosure@pbgc.gov), Office of the General Counsel, Pension Benefit Guaranty Corporation, 445 12th Street SW, Washington, DC, 20024-2101, or by calling 202-229-4040 during normal business hours, or go to https://www.pbgc.gov/about/policies/pg/privacy-at-pbgc/system-of-records-notices.

SUPPLEMENTARY INFORMATION: PBGC is removing the Prefatory Statement of General Routine Uses and merging all pertinent General Routine Uses from the Prefatory Statement of General Routine Uses into their respective Routine Uses sections of the following: PBGC-1, Congressional Correspondence; PBGC-2, Disbursements; PBGC-3, Employee Payroll, Leave and Attendance Records; PBGC-6, Plan Participant and Beneficiary Data—PBGC; PBGC-8, Employee Relations Files; PBGC-9, Unclaimed Retirement Funds; PBGC-10, Administrative Appeals File; PBGC-11, Call Detail Records; PBGC-12, Personnel Security Investigation Records; PBGC-13, Debt Collection; PBGC-14, My Plan Administration Account Records; PBGC-15, Emergency Notification Records; PBGC-16, People Search; PBGC-19, Office of Negotiations and Restructuring/Office of General Counsel Case Management System—PBGC; PBGC-21, Reasonable Accommodation Records; PBGC-22, Telework and Alternative Worksite Records; PBGC-23, Internal Investigations of Allegations of Harassing Conduct; PBGC-25, PBGC.GOV Comment Management System—PBGC; PBGC-26, PBGC Insider Threat and Data Loss Prevention—PBGC; and PBGC-27, Ensuring Workplace Health and Safety in Response to a Public Health Emergency—PBGC. Additionally, PBGC is making numerous administrative updates in all SORNs, to update the citations to the Contesting Records Procedures section and to the Privacy Act of 1974, and to update SORNs 1-3, 6, 8-16, 19, 21-23, and 25-27, to remove the citation to the Prefatory Statement of General Routine Uses and to update the Official Addresses and System Locations. PBGC is proposing to amend the System Names of SORNs 6, 17, 19, 25, 26, 27, 29, and 30. PBGC is proposing to add one routine use to all SORNs: 1-3, 6, 8-16, 19, 21-23, and 25-27. PBGC is proposing to add one routine use from its Prefatory Statement of General Routine Uses to SORNs 28, 29, and 30. PBGC is proposing to republish all current system of records notices. Amendments to specific SORNs include the following: PBGC is proposing to amend the purpose, categories of individuals and records, record source categories, and the policy and practices for retrieval sections of PBGC-1, Congressional Correspondence; PBGC is proposing to clarify its system managers, a routine use, its practice of storing records in and the purpose of PBGC-2, Disbursements; PBGC is proposing to clarify the categories of records maintained in PBGC-3, Employee Payroll, Leave, and Attendance Records; PBGC is proposing to update the categories of records and record sources in PBGC-6: Plan Participant and Beneficiary Data—PBGC; PBGC is proposing to clarify a routine use and remove the exemption claimed by PBGC-8, Employee Relations Files; PBGC is proposing to add a routine use, update the record source categories, and amend three routine uses in PBGC-9, Unclaimed Retirement Funds; PBGC is proposing to amend the purpose and sources of records in PBGC-10, Administrative Appeals; PBGC is proposing to update the categories of records of PBGC-11, Call Detail Records—PBGC; PBGC is proposing to update the purpose of the system of records, update record sources, amend three routine uses, and a two routine uses to PBGC-12, Personnel Security Investigation Records; PBGC is proposing to update the system location and categories of records for PBGC-14, My Plan Administration Account Records—PBGC; PBGC is proposing to amend a routine use in PBGC-15, Emergency Notification Records; PBGC is proposing to update the purpose, categories of individuals, and categories of records to PBGC-17, Office of Inspector General Investigative Filing System; PBGC is proposing to update the categories of records for PBGC-19, Office of Negotiations and Restructuring/Office of General Counsel Case Management System—PBGC; PBGC is proposing to amend the system name, amend the categories of individuals, amend the categories of records, amend the record sources, update one routine use, and add two routine uses in PBGC-22, Telework and Alternative Worksite Records; PBGC is proposing to amend the name of the system of records, update the owner of the system of records, update the category of records and add one routine uses to PBGC-23, Internal Investigation of Allegations of Harassing Conduct; PBGC is proposing to amend the name of the system of records and update the owner of the system of records for PBGC-25, PBGC.GOV Comment Management System—PBGC; and, PBGC is proposing to amend the categories of records section of PBGC -29, Freedom of Information Act and Privacy Act Request Records—PBGC.

(1) At the direction of the Office of Information and Regulatory Affairs, PBGC is merging all pertinent General Routine Uses from the Prefatory Statement of General Routine Uses into the Routine Uses sections of SORNs 1-3, 6, 8-16, 19, 21-23, and 25-27.

At the direction of the Office of Management and Budget's (OMB) Office of Information and Regulatory Affairs (OIRA), PBGC is proposing to merge and list all pertinent General Routine Uses from the Prefatory Statement of General Routine Uses, last published at 83 FR 6247 (Feb. 13, 2018), into the routine uses sections of the system of records notices (SORNs) 1-3, 6, 8-16, 19, 21-23, and 25-27. PBGC will merge the General Routine Uses cited in each SORN in their most recent publication into the routine uses section of each SORN.

Additionally, as it merges General Routine Uses 4 and 5 into the SORNs, PBGC is incorporating OIRA's suggested language to clarify that any disclosures must be relevant and necessary to litigation. As it merges General Routine Use 14 into the SORNs, PBGC is rewriting the language to conform to OMB Memorandum A-130. All additional revisions will be incorporated into the merger of routine uses and renumbered accordingly.

(2) PBGC is removing the Prefatory Statement of General Routine Uses.

PBGC is proposing to removing the Prefatory Statement of General Routine Uses due to the merger of General Routine Uses into each SORN discussed in Section 1.

(3) PBGC is proposing, in all SORNs, to update the citations to the Contesting Records Procedures section and to the Privacy Act of 1974, and to update SORNs 1-3, 6, 8-16, 19, 21-23, and 25-27, to remove the citation to the Prefatory Statement of General Routine Uses and to update the Official Addresses and System Locations.

When PBGC reviewed and revised its SORNs in 2018, it omitted the citation to its regulations explaining the process to contest information contained in records maintained by PBGC. PBGC is adding the citation to 29 CFR 4902.5 to the Contesting Records Procedures section of all its SORNs. Additionally, upon review, it was noticed that the Routine Uses section of all SORNs contained a citation error. PBGC is amending the Privacy Act citation in the Routine Uses section of all its SORNs, changing it from 5 U.S.C. 522a(b) to 5 U.S.C. 552a(b). Additionally, PBGC is removing all citations to PBGC's Prefatory Statement of General Routine Uses in SORNs 1-3, 6, 8-16, 19, 21-23, and 25-27 to reflect that General Routine Uses were merged at the direction of OIRA. Lastly, PBGC is updating the Official Addresses of SORNs 1-3, 6, 8-16, 19, 21-23, and 25-27 to reflect PBGC's new Headquarters location and/or system locations where applicable.

(4) PBGC is proposing to amend the System Names of SORNs 6, 17, 19, 25, 26, 27, 29, and 30.

PBGC is amending the System Names to remove a naming convention formerly installed with previous publications. Thus, in SORNs 6, 17, 25, 26, 27, 29, and 30, PBGC will remove “—PBGC” from the System Names.

(5) PBGC is proposing to add one routine use to all SORNs: 1-3, 6, 8-16, 19, 21-23, and 25-27.

Additionally, PBGC is adding a new routine use that will read: “To another Federal agency or non-Federal entity to compare such records in the agency's system of records or to non-Federal records in coordination with the Office of Inspector General (OIG) conducting an audit, investigation, inspection, or some other review as authorized by the Inspector General Act, as amended.” Pursuant to the Inspector General Empowerment Act of 2016, an Inspector General or an agency, in coordination with an Inspector General, may conduct a computerized comparison of two or more automated system of records or a comparison of a Federal system of records with other records or non-Federal records without it creating a matching program as defined by the Computer Matching and Privacy Protection Act, as amended. PBGC's Inspector General requested that PBGC create a new routine use to reflect that information contained in a PBGC system of records may be used in a computerized comparison of two or more system of records or with non-Federal records in coordination with the OIG conducting an audit, investigation, inspection, or some other review as authorized by the Inspector General Act, as amended. The new routine use will be numbered in each SORN accordingly.

(6) PBGC is proposing to add one routine use from its Prefatory Statement of General Routine Uses to SORNs 28, 29, and 30.

During its review since their last publication, PBGC determined that it inadvertently left out a General Routine Use 14 from its Prefatory Statement of Routine Uses in SORNs: 28, 29, and 30. The new routine use will be numbered in each SORN accordingly and will read “To another Federal agency or Federal entity, when information from this system of records is reasonably necessary to assist the recipient agency or entity in (1) responding to a suspected or confirmed breach or (2) preventing, minimizing, or remedying the risk of harm to individuals, the agency (including its information systems, programs, and operations), the Federal Government, or national security.”

(7) PBGC is proposing to republish all current system of records notices.

PBGC annually reviews all system of records notices and attempts to republish them biennially. SORNs 6, 17, 19, 21, 27, 28, 29, and 30 have been published separately within the past four years. There have been minor corrections, changes in system owners due to internal agency realignments, and administrative changes for consistency in the existing system of records notices since then. As such, PBGC proposes to republish all current system of records notices in order to clarify and consolidate information into one publication.

(8) PBGC is proposing to amend the purpose, categories of individuals, categories of records, record sources, and the policy and practices for retrieval of PBGC-1, Congressional Correspondence.

PBGC is proposing two amendments to this SORN.

First, PBGC is proposing to amend the Purpose of the System, Categories of Individuals Covered by the System, Categories of Records in the System, and Record Source Categories sections to reflect inquiries may contain correspondence from the Executive Office of the President of the United States.

Second, PBGC is proposing to amend the Policies and Practices for Retrieval of Records section in PBGC-1: Congressional Correspondence (last published at 83 FR 6253 (February 13, 2018)) to reflect an additional retrieval method. The current wording of “Name” will be altered to “Records are retrieved by any one or more of the following: name or Record ID Number.”

(9) PBGC is proposing to clarify the system managers, a routine use, its practice of storing records in, and the purpose of PBGC-2, Disbursements.

PBGC is proposing four amendments to PBGC-2, Disbursements (last published at 83 FR 6254 (February 13, 2018)). First, PBGC proposes to amend the Purpose(s) of the System section to that this system is meant for effecting all payments made on behalf of PBGC, not just those made by Treasury, by removing the language “payments made by the Treasury.” Second, the Policies and Practices for Storage of Records section currently states that records may be maintained in paper and/or electronic form. The proposed language clarifies that “Paper records are stored in locked offices and PIV-reader accessed rooms.” Third, PBGC is proposing to add the Office of Benefits Administration as a system owner due to their involvement with effecting benefits payments. Fourth, PBGC is proposing to modify Routine Use 1 (formerly Routine Use 2) to clarify that this system effects payments to all persons.

(10) PBGC is proposing to clarify the categories of records maintained in PBGC-3, Employee Payroll, Leave, and Attendance Records.

PBGC is proposing to add language to PBGC-3: Employee Payroll, Leave, and Attendance Records (last published at 83 FR 6254 (February 13, 2018) to clarify what health information is maintained in the system of records. The proposed language will read, “health information related to FMLA requests.”

(11) PBGC is proposing to update the categories of records and record source categories in PBGC-6: Plan Participant and Beneficiary Data—PBGC

PBGC is proposing two amendments to this SORN. First, PBGC will add language to the Categories of Records in the System section of PBGC-6: Plan Participant and Beneficiary Data (last published at 87 FR 79002 (December 23, 2022)) stating that the system may include user attributes received from Login.gov for user authentication. Second, PBGC will add the General Services Administration as a record source in the Record Source Categories section and remove “PBGC Field Offices” for administrative updates.

(12) PBGC is proposing to remove the exemption claimed by PBGC-8, Employee Relations Files and update a routine use.

PBGC is proposing two amendments to this SORN. First, PBGC is proposing to remove the exemption claimed pursuant to 5 U.S.C. 552a(k)(2) by PBGC-8, Employee Relations Files (last published at 83 FR 6256 (February 13, 2018)). During its review, PBGC determined this exemption was invalid. Second, PBGC is proposing to amend Routine Use 2 (formerly Routine Use 3) to include the fact that information may be shared with an employee's attorney or union representative.

(13) PBGC is proposing to update the record source categories, and amend three routine uses in PBGC-9, Unclaimed Retirement Funds.

PBGC is proposing four amendments to this SORN (last published at 83 FR 6256 (February 13, 2018)).

First, PBGC is proposing to update the Record Source Categories to state that PBGC collects information contained within the system from other Federal agencies, plan administrators, plan sponsors, and insurance companies.

Second, PBGC proposes to amend Routine Uses 2 and 3 (formerly Routine Uses 3 and 4) to reflect that PBGC may disclose records to a labor organization recognized as the collective bargaining representative for participants in a plan (Routine Use 2) or use locator services (Routine Use 3) when it is unable to issue benefit payments because an address cannot be confirmed as current or correct. The new language to be added to Routine Uses 2 and 3 will read: “or PBGC is unable to make benefit payments to those participants, beneficiaries, and alternate payees because the address on file is unable to be confirmed as current or correct.”

Third, PBGC proposes to amend Routine Use 4 (formerly Routine Use 5). The Office of Benefits Administration requests that PBGC amend Routine Use 5 to reflect that a contract that binds the licensee of the Postal Service must reference the civil and criminal penalties of the Privacy Act. Upon its review of the current Routine Use, PBGC determined that the parameters of the Routine Use only required reference to the criminal penalties, and both are needed.

Fourth, PBGC proposes updating Routine Use 6 (formerly Routine Use 7) to reflect that the forum for publishing information from this SORN will be PBGC.GOV. The clarifying language will read “Should PBGC disclose information under this routine use, it may be disclosed to the public by publishing on PBGC.GOV website.”

Note that the numbering changes to the Routine Uses discussed above result from deleting the current Routine Use 1. Routine Use 1 incorporates some of the current General Routine Uses. As discussed elsewhere in this document, PBGC, at the direction of OIRA, is incorporating relevant General Routine Uses into each of its SORNs and therefore revoking its General Routine Uses. Routine Use 1 is thus no longer needed.

(14) PBGC is proposing to amend the purpose and sources of records in PBGC-10, Administrative Appeals.

PBGC is proposing two amendments to PBGC-10, Administrative Appeals (last published at 83 FR 6260 (February 13, 2018)). First, PBGC is proposing to update the Purpose of the System section to clarify “The purpose of this system is to catalog, review, and respond to administrative appeals of PBGC determinations (such as plan, benefit, qualified domestic relations order, payment, and liability determinations) by plan participants, beneficiaries and employers.” Second, PBGC is proposing to amend the Record Source Categories section to specify that PBGC may receive records from an individual's attorney or other authorized representative.

(15) PBGC is proposing to update the categories of records and record sources of PBGC-11, Call Detail Records

PBGC is proposing to amend the Categories of Records and Record Source Categories sections of PBGC 11: Call Detail Records (last published at 83 FR 6261 (February 13, 2018)) to clarify that the system of records may include records from PBGC-issued communications devices or communications software on PBGC-issued computers, portable electronic devices, or desktop telephones, used to send communications internally within or externally from PBGC and used to receive communications internally within or externally from PBGC, and records indicating the assignment of PBGC-issued communications devices or communications software to PBGC employees.

(16) PBGC is proposing to update the purpose of the system of records, update the record sources, amend three routine uses, and add a routine uses to PBGC-12, Personnel Security Investigation Records.

PBGC proposes five amendments to PBGC-12, Personnel Security Investigation Records (last published at 83 FR 6262 (February 13, 2018)).

First, PBGC proposes to amend the Purposes of the System section to state that records may be used for insider threat investigations and to include PBGC's participation in the National Background Investigation Service's Continuous Vetting process and the Trusted Workforce 2.0 Program.

Second, PBGC proposes to broaden the Record Source Categories section to reflect all personnel forms or security forms used in connection with background checks.

Third, PBGC proposes amending Routine Uses 1, 2, and 9 (formerly Routine Uses 2, 3, and 10) to remove references to the Office of Personnel Management (OPM), which no longer conducts background investigations for suitability determinations. PBGC proposes replacing references to OPM with “the Federal agency conducting background investigations.”

Fourth, PBGC proposes to amend Routine Use 2 (formerly Routine Use 3) to include “the Federal agency conducting background investigations” to reflect the fact the agency may need to provide documentation to that agency to complete the investigation.

Fifth, PBGC proposes a new routine use to reflect that information maintained in this system of records may be disclosed to PBGC's Insider Threat Program in conjunction with an investigation or inquiry. New Routine Use 13 will read: “To provide information to PBGC's Insider Threat Program in conjunction with determining the severity of the risk, if any, posed by an employee or contractor.”

Note that the numbering changes to the Routine Uses discussed above result from deleting the current Routine Use 1. Routine Use 1 incorporates some of the current General Routine Uses. As discussed elsewhere in this document, PBGC, at the direction of OIRA, is incorporating relevant General Routine Uses into each of its SORNs and therefore revoking its General Routine Uses. Routine Use 1 is thus no longer needed.

(17) PBGC is proposing no additional updates to PBGC-13, Debt Collection

Other than what has been detailed in Sections 1-7, there are no additional updates to this SORN.

(18) PBGC is proposing to update the system location, record sources, and categories of records for PBGC-14, My Plan Administration Account Records.

PBGC is proposing three amendments to PBGC-14, My Plan Administration Account Records (last published at 83 FR 6272 (February 13, 2018)). First, PBGC is proposing to amend the System Location section to reflect that records may be stored in the Oracle Service Cloud. Second, PBGC proposes to amend the Categories of Records section to include user attributes received from Login.gov for user authentication. Third, PBGC will add the General Services Administration as a record source in the Record Source Categories section for Login.gov.

(19) PBGC is proposing to amend a routine use in PBGC-15, Emergency Notification Records.

PBGC is proposing to amend Routine Use 1 (Formerly Routine Use 2) in PBGC-15 (last published at 83 FR 6266 (February 13, 2018)) to include compelling circumstances for disclosure. Amended Routine Use 1 will read “A record in this system of records may be disclosed to family members, emergency medical personnel, or to law enforcement officials in case of a medical or other emergency involving compelling circumstances affecting the health or safety of the subject individual excepted by 5 U.S.C. 552a(b)(8).

(20) PBGC is proposing no additional amendments to PBGC-16, People Search

Other than what has been detailed in Sections 1-7, there are no additional updates to this SORN.

(21) PBGC is proposing to update the purpose, categories of individuals, and categories of records to PBGC-17, Office of Inspector General Investigative Filing System

PBGC is proposing three amendments PBGC-17 (last republished at 89 FR 3436 (Jan. 18, 2024)).

First, PBGC is amending the Purpose of the System section to be more consistent with wording used in other PBGC SORNs and to correct the name of the Office of the Inspector General (OIG).

Second, PBGC is amending the wording in the first sentence of the Categories of Individuals Covered by the System section to replace “Office of Inspector General” with abbreviation: “OIG.”

Third, PBGC is amending the Categories of Records section to include the following: aliases, telephone and cell phone numbers, physical and mailing addresses, electronic mailing addresses, and any other relevant personal information that is a subject of investigation by the OIG.

(22) PBGC is proposing to update the categories of records and record sources for PBGC-19, Office of Negotiations and Restructuring/Office of General Counsel Case Management System—PBGC

PBGC is proposing to amend the Categories of Records and Record Source Categories sections of PBGC-19 (last published at 86 FR 49061 (Sep. 01, 2021)) to include user attributes received from Login.gov for user authentication from the General Services Administration.

(23) PBGC is proposing no additional amendments to PBGC-21, Reasonable Accommodation Records

Other than what has been detailed in Sections 1-7, there are no additional updates to this SORN.

(24) PBGC is proposing to amend the system name, amend the purpose, amend the categories of individuals, amend the categories of records, amend the record sources, update one routine use, and add two routine uses in PBGC-22, Telework and Alternative Worksite Records.

PBGC is proposing several amendments to PBGC-22: Telework and Alternative Worksite Records (last published at 83 FR 6272 (February 13, 2018)).

First, PBGC is proposing to change the name to “PBGC-22: Remote Work, Telework, and Alternative Worksite Records—PBGC” to reflect the inclusion of remote work program records.

Second, PBGC proposes to add language to the Purpose(s) of the System, Categories of Individuals, Record Source Categories, and Categories of Records sections clarifying that the system includes records relating to the remote work program. Moreover, PBGC proposes to clarify in the Categories of Records section that medical telework is a type of telework and that medical documentation to support the request for medical telework may be contained in the system.

Third, PBGC proposes to amend Routine Use 4 (formerly Routine Use 5) to clarify that records may be disclosed to alternative dispute resolution providers in labor or employment disputes. Routine Use 4 will now read: “A record from this system of records may be disclosed to appropriate third parties contracted by the agency to facilitate mediation or other dispute resolution procedures or programs.”

Fourth, PBGC is also proposing to add a routine use for shipping of information technology equipment to agency personnel. The new Routine Use 5 will read: “A record from this system may be disclosed to the PBGC Information Technology Infrastructure Operations Department (ITIOD) when necessary for the shipping of Government-owned IT equipment to an employee's approved alternative work location.”

Fifth, PBGC proposes a new routine use—Routine Use 6—for loaning office furniture to agency personnel. It will read “A record from this system may be disclosed to the PBGC Workplace Solutions Department (WSD) when necessary to account for office furniture loaned to an employee for use at their approved alternate work location.”

Note that the numbering changes to the Routine Uses discussed above results from deleting the current Routine Use 1. Routine Use 1 incorporates some of the current General Routine Uses. As discussed elsewhere in this document, PBGC, at the direction of OIRA, is incorporating relevant General Routine Uses into each of its SORNs and therefore revoking its General Routine Uses. Routine Use 1 is thus no longer needed.

(25) PBGC is proposing to amend the name of the system of records, update the owner of the system of records, update the category of records, add one routine use to PBGC-23, Internal Investigation of Allegations of Harassing Conduct, and remove exemption.

PBGC is proposing five amendments to PBGC-23, Internal Investigation of Allegations of Harassing Conduct (last published at 83 FR 6273 (February 13, 2018)).

First, PBGC proposes to amend the name of the system of records to be more consistent with the body that conducts inquiries into harassment complaints within PBGC. The new system name would be “PBGC-23: Internal Inquiries of Allegations of Harassing Conduct.”

Second, PBGC proposes to amend the system owners to be both the Office of General Counsel's department director for the General Law and Operations Department and the Human Resources Department, the two departments that conduct inquiries into harassment complaints within PBGC.

Third, PBGC is proposing to update the Categories of Records to reflect that it now includes the “Harassment Inquiry Committee intake form.”

Fourth, PBGC is proposing to add a new routine use to reflect that records may be disclosed to the PBGC Equal Employment Opportunity Office or the Office of Inspector General in the course of their work. Routine Use 2 will read, “Disclosure of information from this system of records may be made to the PBGC Office of Equal Employment Opportunity or the PBGC Office of the Inspector General when related to investigations under their jurisdiction.”

Lastly, PBGC is proposing to remove the exemption claimed pursuant to 5 U.S.C. 552a(k)(2). During its review, PBGC determined this exemption was invalid.

(26) PBGC is proposing to amend the name of the system of records and update the owner of the system of records for PBGC-25, PBGC.GOV Comment Management System—PBGC.

PBGC is proposing two amendments to PBGC-25: PBGC.GOV Comment Management System—PBGC (last published at 83 FR 6274 (February 13, 2018)).

First, PBGC determined that, due to a proposed update to the ownership of the system of records, the name of the system of records should more accurately reflect its meaning. Accordingly, PBGC proposes to amend the name of the system to: “PBGC-25: Comment Management System.”

Second, PBGC proposes to amend the owner of the system of records to the Program Law and Policy Department within the Office of General Counsel.

(27) PBGC is proposing no additional amendments to PBGC-26, PBGC Insider Threat and Data Loss Prevention.

Other than what has been detailed in Sections 1-7, there are no additional updates to this SORN.

(28) PBGC is proposing no additional amendments to PBGC-27, Ensuring Workplace Health and Safety in response to a Public Health Emergency—PBGC.

Other than what has been detailed in Sections 1-5, there are no additional updates to this SORN.

(29) PBGC is proposing no additional amendments to PBGC-28, Physical Security and Facility Access.

Other than what has been detailed in Sections 1-2 and 6-7, there are no additional updates to this SORN.

(30) PBGC is proposing no additional amendments to PBGC-29, Freedom of Information Act and Privacy Act Request Records—PBGC.

PBGC is proposing to amend the Categories of Records section of PBGC-29 (last published at 88 FR 41663 (June 27, 2023)) to include user attributes received from Login.gov for account creation and user authentication.

(31) PBGC is proposing no additional amendments to PBGC-30, Surveys and Complaints—PBGC.

Other than what has been detailed in Sections 1-7, there are no additional updates to this SORN.

Pursuant to 5 U.S.C. 552a(e)(11), interested persons are invited to submit written comments on the proposed changes described in this notice. A report has been sent to Congress and the Office of Management and Budget for their evaluation.

Issued in Washington, DC.
Charles Chalmers,
Deputy General Counsel, Pension Benefit Guaranty Corporation.

SYSTEM NAME AND NUMBER:

PBGC-1: Congressional Correspondence.

SECURITY CLASSIFICATION:

Unclassified.

SYSTEM LOCATION:

Pension Benefit Guaranty Corporation (PBGC), 445 12th Street SW, Washington, DC, 20024-2101 (Records may be kept at an additional location as backup for continuity of operations.)

SYSTEM MANAGER(S):

Director, Communications Outreach and Legislative Affairs, PBGC, 445 12th Street SW, Washington, DC, 20024-2101.

AUTHORITY FOR MAINTENANCE OF THE SYSTEM:

29 U.S.C. 1302; 44 U.S.C. 3101; and 5 U.S.C. 301.

PURPOSE(S) OF THE SYSTEM:

This system of records is maintained to catalog and respond to correspondence received from members of Congress and their staff on behalf of their constituents, from the Executive Office of the President, its Cabinet and their staff, and from correspondence directed to the Office of the Director of PBGC.

CATEGORIES OF INDIVIDUALS COVERED BY THE SYSTEM:

Members of the United States Congress and their staff, Congressional constituents, members of the President's Cabinet and their staff, and individuals who have corresponded with PBGC.

CATEGORIES OF RECORDS IN THE SYSTEM:

Names of members of Congress, congressional staff, presidential staff, and constituents; addresses; phone numbers; social security numbers; customer identification numbers; email addresses; copies of correspondence received; replies to such correspondence.

RECORD SOURCE CATEGORIES:

Members of Congress and their staff; members of the President's Cabinet and their staff; correspondents; agency employees preparing responses to incoming correspondence or who generate original correspondence in their official capacities.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

3. With the approval of the Director, Human Resources Department (or his or her designee), the fact that this system of records includes information relevant to a Federal agency's decision in connection with the hiring or retention of an employee, the retention of a security clearance, the letting of a contract, or the issuance of a license, grant, or other benefit may be disclosed to that Federal agency.

4. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

5. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

6. A record from this system of records may be disclosed to OMB in connection with the review of private relief legislation as set forth in OMB Circular No. A-19 at any stage of the legislative coordination and clearance process as set forth in that Circular.

7. A record from this system of records may be disclosed to a congressional office in response to an inquiry from the congressional office made at the request of the individual.

8. A record from this system of records may be disclosed to an official of a labor organization recognized under 5 U.S.C. ch. 71 when necessary for the labor organization to properly perform its duties as the collective bargaining representative of PBGC employees in the bargaining unit.

9. A record from this system of records may be disclosed to appropriate agencies, entities, and persons when (1) PBGC suspects or has confirmed that there has been a breach of the system of records; (2) PBGC has determined that as a result of the suspected or confirmed breach there is a risk of harm to individuals, the agency (including its information systems, programs and operations), the Federal Government, or national security; and (3) the disclosure made to such agencies, entities, and persons is reasonably necessary to assist in connection with PBGC's efforts to respond to the suspected or confirmed breach or to prevent, minimize, or remedy such harm.

10. To contractors, experts, consultants, and the agents thereof, and others performing or working on a contract, service, cooperative agreement, or other assignment for PBGC when necessary to accomplish an agency function. Individuals provided information under this routine use are subject to the same Privacy Act requirements and limitations on disclosure as are applicable to PBGC employees.

11. To the National Archives and Records Administration or to the General Services Administration for records management inspections conducted under 44 U.S.C. 2904 and 2906.

12. To disclose information to a Federal agency, in response to its request, in connection with hiring or retaining an employee, issuing a security clearance, conducting a security or suitability investigation of an individual, or classifying jobs, to the extent that the information is relevant and necessary to the requesting agency's decision on the matter.

13. To another Federal agency or non-Federal entity to compare such records in the agency's system of records or to non-Federal records in coordination with the Office of Inspector General conducting an audit, investigation, inspection, or some other review as authorized by the Inspector General Act, as amended.

14. To another Federal agency or Federal entity, when information from this system of records is reasonably necessary to assist the recipient agency or entity in (1) responding to a suspected or confirmed breach or (2) preventing, minimizing, or remedying the risk of harm to individuals, the agency (including its information systems, programs, and operations), the Federal Government, or national security.

POLICIES AND PRACTICES FOR STORAGE OF RECORDS:

Records are maintained in paper and/or electronic form (including computer databases or discs). Records may also be maintained on back-up tapes, or on a PBGC or a contractor-hosted network.

POLICIES AND PRACTICES FOR RETRIEVAL OF RECORDS:

Records are retrieved by any one or more of the following: name or Record ID Number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for congressional correspondence and will be maintained in accordance with General Records Schedule 5.7 Record Items: 050.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend, in accordance with 29 CFR 4902.5, their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-1, Congressional Correspondence (last published at 83 FR 6253 (Feb. 13, 2018)).

SYSTEM NAME AND NUMBER:

PBGC-2: Disbursements

SECURITY CLASSIFICATION:

Unclassified

SYSTEM LOCATION:

Pension Benefit Guaranty Corporation (PBGC), 445 12th Street SW, Washington, DC 20024-2101, PBGC Field Offices (Field Benefit Administration), and/or paying agent worksites. (Records may be kept at an additional location as backup for continuity of operations.)

SYSTEM MANAGER(S):

Director, Financial Operations Department, PBGC, 445 12th Street SW, Washington, DC 20024-2101.

Chief of Benefits Administration, Office of Benefits Administration, PBGC, 445 12th Street SW, Washington, DC 20024-2101.

AUTHORITY FOR MAINTENANCE OF THE SYSTEM:

29 U.S.C. 1302; 44 U.S.C. 3101; 5 U.S.C. 301; 31 U.S.C. 6101 et seq.; 31 U.S.C. 9101, et seq.; 31 U.S.C. 3716.

PURPOSE(S) OF THE SYSTEM:

This system of records is maintained for use in determining amounts to be paid and in effecting payments on behalf of PBGC.

CATEGORIES OF INDIVIDUALS COVERED BY THE SYSTEM:

PBGC Employees; consultants; contractors; vendors; and any other individuals who receive payments from PBGC.

CATEGORIES OF RECORDS IN THE SYSTEM:

Acquisition data for the procurement of goods and services; invoices; payment vouchers; financial information of commercial vendors and government contractors; Electronic Funds Transfer (EFT) information; IP information; cookies (session and persistent); name; address; taxpayer identification number; financial information; bank information; Social Security number; and other information related to the disbursement of funds.

RECORD SOURCE CATEGORIES:

Subject individuals and PBGC.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and 5 U.S.C. 552a(b)(3) and:

1. A record from this system of records may be transmitted to the United States Department of the Treasury and/or financial institutions, including entities contracted by PBGC, to effect payments to all persons, to verify all persons eligibility to receive payments, or to fulfill PBGC's requirement pursuant to the Digital Accountability and Transparency Act of 2014.

2. To the Office of Personnel Management (OPM), the Office of Management and Budget (OMB), or the Government Accountability Office (GAO) when the information is required for program evaluation purposes.

3. A record from this system may be disclosed to a consumer reporting agency in accordance with 31 U.S.C. 3711(e).

4. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

5. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

6. With the approval of the Director, Human Resources Department (or his or her designee), the fact that this system of records includes information relevant to a Federal agency's decision in connection with the hiring or retention of an employee, the retention of a security clearance, the letting of a contract, or the issuance of a license, grant, or other benefit may be disclosed to that Federal agency.

7. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

8. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

9. A record from this system of records may be disclosed to OMB in connection with the review of private relief legislation as set forth in OMB Circular No. A-19 at any stage of the legislative coordination and clearance process as set forth in that Circular.

10. A record from this system of records may be disclosed to a congressional office in response to an inquiry from the congressional office made at the request of the individual.

11. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

12. To contractors, experts, consultants, and the agents thereof, and others performing or working on a contract, service, cooperative agreement, or other assignment for PBGC when necessary to accomplish an agency function. Individuals provided information under this routine use are subject to the same Privacy Act requirements and limitations on disclosure as are applicable to PBGC employees.

13. To the National Archives and Records Administration or to the General Services Administration for records management inspections conducted under 44 U.S.C. 2904 and 2906.

14. To any source from which information is requested in the course of processing a grievance, investigation, arbitration, or other litigation, to the extent necessary to identify the individual, inform the source of the purpose(s) of the request, and identify the type of information requested.

15. To disclose information to a Federal agency, in response to its request, in connection with hiring or retaining an employee, issuing a security clearance, conducting a security or suitability investigation of an individual, or classifying jobs, to the extent that the information is relevant and necessary to the requesting agency's decision on the matter.

16. To another Federal agency or Federal entity, when information from this system of records is reasonably necessary to assist the recipient agency or entity in (1) responding to a suspected or confirmed breach or (2) preventing, minimizing, or remedying the risk of harm to individuals, the agency (including its information systems, programs, and operations), the Federal Government, or national security.

17. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained in paper and/or electronic form (including computer databases or discs). Records may also be maintained on back-up tapes, or on a PBGC or a contractor-hosted network. Paper records are stored in locked offices and PIV-reader accessed rooms.

POLICIES AND PRACTICES FOR RETRIEVAL OF RECORDS:

Records are retrieved by any one or more of the following: name, social security number, and taxpayer identification number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for financial systems and will be maintained in accordance with General Records Schedule 2.4.

Transactional records may be temporary in nature and deleted once payment has been accepted, any action has been completed, superseded, obsolete, or no longer needed. The retention of other records may be discontinued at the completion of the contract, a requisition requiring payment, or upon receipt of the payment itself.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-2, Disbursements (last published at 83 FR 6254 (Feb. 13, 2018)).

SYSTEM NAME AND NUMBER:

PBGC-3: Employee Payroll, Leave, and Attendance Records.

SECURITY CLASSIFICATION:

Unclassified.

SYSTEM LOCATION:

Pension Benefit Guaranty Corporation (PBGC), 445 12th Street SW, Washington, DC 20024-2101 (Records may be kept at an additional location as backup for continuity of operations.)

SYSTEM MANAGER(S):

Director, Financial Operations Division, PBGC, 445 12th Street SW, Washington, DC 20024-2101.

Director, Human Resources Department, PBGC, 445 12th Street SW, Washington, DC 20024-2101.

AUTHORITY FOR MAINTENANCE OF THE SYSTEM:

29 U.S.C. 1302; 29 CFR 825.305; 44 U.S.C. 3101; 5 U.S.C. 301; 5 U.S.C. 5501-5584.

PURPOSE(S):

This system of records is maintained to perform agency functions involving employee, student, and intern leave, attendance, and payments, including determinations relating to the amounts to be paid to employees, the distribution of pay according to employee, student, and intern directions (for allotments to financial institutions, and for other authorized purposes), tax withholdings and other authorized deductions, and for statistical purposes.

CATEGORIES OF INDIVIDUALS COVERED BY THE SYSTEM:

Current and former PBGC employees, students, and interns.

CATEGORIES OF RECORDS IN THE SYSTEM:

Personnel information, such as: names, addresses, phone numbers, social security numbers, employee numbers, dates of birth, notifications of personnel actions; payroll information, such as: allotments and requests, marital status and number of dependents, beneficiary data, child support enforcement order information (which may include the social security numbers of custodian and minor children), debts owed to PBGC, debts owed to the Federal government, garnishments, personal bank account information, direct deposit information, union dues, tax information, other deductions, time and attendance records; co-owner and/or beneficiary of bonds; Thrift Savings Plan information; Flexible Spending Account information; Long Term Care Insurance; awards; retirement information; salary data including pay rate, grade, length of service; health information related to FMLA requests.

RECORD SOURCE CATEGORIES:

Subject individuals; subject individuals' supervisors; timekeepers; Department of the Interior, Interior Business Center; and the Office of Personnel Management.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to the United States Department of the Interior, the United States Department of Labor, Social Security Administration, and the United States Department of the Treasury in order to effect payments to current or former PBGC employees, students, and interns.

2. Information regarding current payments due or delinquent repayments owed to PBGC through current and former employees, students, and interns may be shared with the Department of the Treasury for the purposes of offset.

3. Information from this system of records may be disclosed to the Office of Personnel Management pursuant to that agency's responsibility for the evaluation and oversight of Federal personnel management.

4. A record from this system may be disclosed to a consumer reporting agency in accordance with 31 U.S.C. 3711(e).

5. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

6. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

7. With the approval of the Director, Human Resources Department (or his or her designee), the fact that this system of records includes information relevant to a Federal agency's decision in connection with the hiring or retention of an employee, the retention of a security clearance, the letting of a contract, or the issuance of a license, grant, or other benefit may be disclosed to that Federal agency.

8. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

9. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

10. A record from this system of records may be disclosed to OMB in connection with the review of private relief legislation as set forth in OMB Circular No. A-19 at any stage of the legislative coordination and clearance process as set forth in that Circular.

11. A record from this system of records may be disclosed to a congressional office in response to an inquiry from the congressional office made at the request of the individual.

12. A record from this system of records may be disclosed to an official of a labor organization recognized under 5 U.S.C. ch. 71 when necessary for the labor organization to properly perform its duties as the collective bargaining representative of PBGC employees in the bargaining unit.

13. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm

14. To contractors, experts, consultants, and the agents thereof, and others performing or working on a contract, service, cooperative agreement, or other assignment for PBGC when necessary to accomplish an agency function. Individuals provided information under this routine use are subject to the same Privacy Act requirements and limitations on disclosure as are applicable to PBGC employees.

15. To the National Archives and Records Administration or to the General Services Administration for records management inspections conducted under 44 U.S.C. 2904 and 2906.

16. To any source from which information is requested in the course of processing a grievance, investigation, arbitration, or other litigation, to the extent necessary to identify the individual, inform the source of the purpose(s) of the request, and identify the type of information requested.

17. To disclose information to a Federal agency, in response to its request, in connection with hiring or retaining an employee, issuing a security clearance, conducting a security or suitability investigation of an individual, or classifying jobs, to the extent that the information is relevant and necessary to the requesting agency's decision on the matter.

18. To another Federal agency or Federal entity, when information from this system of records is reasonably necessary to assist the recipient agency or entity in (1) responding to a suspected or confirmed breach or (2) preventing, minimizing, or remedying the risk of harm to individuals, the agency (including its information systems, programs, and operations), the Federal Government, or national security.

19. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained in paper and/or electronic form (including computer databases or discs). Records may also be maintained on back-up tapes, or on a PBGC or a contractor-hosted network.

POLICIES AND PRACTICES FOR RETRIEVAL OF RECORDS:

Records are retrieved by any one or more of the following: name; employee number; or social security number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for employee systems and will be maintained in accordance with General Records Schedule 2.4.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-3, Employee Payroll, Leave, and Attendance Records (last published at 83 FR 6256 (Feb. 13, 2018)).

SYSTEM NAME AND NUMBER:

PBGC-6: Plan Participant and Beneficiary Data.

SECURITY CLASSIFICATION:

Unclassified.

SYSTEM LOCATION:

Pension Benefit Guaranty Corporation (PBGC), 445 12th Street SW, Washington, DC 20024-2101, and/or PBGC Field Offices (Field Benefit Administration), plan administrator worksites, and paying agent worksites. (Records may be kept at an additional location as backup for continuity of operations.)

SYSTEM MANAGER(S):

Chief of Benefits Administration, Office of Benefits Administration, PBGC, 445 12th Street SW, Washington, DC 20024-2101.

AUTHORITY FOR MAINTENANCE OF THE SYSTEM:

29 U.S.C. 1055, 1056(d)(3), 1302, 1321, 1341, 1342, and 1350; 26 U.S.C. 6103; 44 U.S.C. 3101; 5 U.S.C. 301.

PURPOSE(S) OF THE SYSTEM:

This system of records is maintained for use in determining whether participants, alternate payees, beneficiaries, spouses and domestic partners are eligible for benefits under plans covered by the Employee Retirement Income Security Act (ERISA), determining supplemental payments to be paid to those persons by a party other than PBGC, determining the amounts of benefits to be paid, making benefit payments, collecting benefit overpayments, and complying with statutory and regulatory mandates.

Names, addresses, and telephone numbers are used to survey customers to measure their satisfaction with PBGC's benefit payment services and to track (for follow-up) those who do not respond to surveys.

De-identified, aggregated information from this system may be used for research into, and statistical information about, benefit determinations for actuaries and publications.

CATEGORIES OF INDIVIDUALS COVERED BY THE SYSTEM:

Participants, alternate payees, beneficiaries, spouses and domestic partners in terminated and non-terminated retirement plans covered by ERISA, and other individuals who contact PBGC regarding benefits they may be owed from PBGC.

CATEGORIES OF RECORDS IN THE SYSTEM:

Names; addresses; telephone numbers; email addresses; user name; universally unique identifier (UUID) from Login.gov for account creation and authentication; gender; social security numbers and other Social Security Administration information; tax identification numbers; dates of birth and death; dates of hire, termination, and retirement; salary; employment history; marital status; domestic relations orders; time of plan participation; eligibility status; pay status; benefit data, including records of benefit payments made to participants, alternate payees, and beneficiaries in terminating and terminated retirement plans; powers of attorney; insurance information where plan benefits are provided by private insurers; medical records; disability information; retirement plan names and numbers; correspondence; initial and final PBGC determinations (see, 29 CFR 4003.21 and 4003.59); and other records relating to debts owed to the Federal Government.

RECORD SOURCE CATEGORIES:

Plan administrators; participants, spouses, alternate payees, beneficiaries, and other individuals who contact PBGC regarding benefits they may be owed from PBGC; unions; insurance companies; locator services; agents listed on release forms or power of attorneys; the Social Security Administration (SSA); the Federal Aviation Administration (FAA); the General Services Administration (GSA); and other Federal agencies.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system of records may be disclosed to third parties, such as banks, insurance companies, collectively bargained labor organizations, or trustees:

a. To enable these third parties to make or determine benefit payments, or

b. To report to the Internal Revenue Service (IRS) the amounts of benefits paid (or required to be paid) and taxes withheld.

2. A record from this system may be disclosed, in furtherance of proceedings under Title IV of ERISA, to a contributing sponsor (or other employer who maintained the plan), including any predecessor or successor, and any member of the same control group.

3. A record from this system may be disclosed, upon request, for a purpose authorized under ERISA, to an official of a labor organization recognized as the current or former collective bargaining representative of the individual about whom a request is made.

4. Payees' names, addresses, telephone numbers, and information related to how PBGC determined that a debt was owed by such payees to PBGC may be disclosed to the Department of the Treasury or a debt collection agency or to collect a claim. Disclosure to a debt collection agency may be made only under a contract issued by the Federal government that binds any such contractor or employee of such contractor to the penalties of the Privacy Act. The information so disclosed will be used exclusively pursuant to the terms and conditions of such contract and will be used solely for the purposes prescribed therein. The contract must provide that the information so disclosed will be returned at the conclusion of the debt collection effort.

5. The name and social security number of a participant employed or formerly employed as a pilot by a commercial airline may be disclosed to the Federal Aviation Administration to obtain information relevant to the participant's eligibility or continued eligibility for disability benefits.

6. The name of a participant's plan, the actual or estimated amount of a participant's benefit under ERISA, the form(s) in which the benefit is payable, and whether the participant is currently receiving benefit payments under the plan or (if not) the earliest date(s) such payments could commence may be disclosed to the participant's spouse, domestic partner, former spouse, former domestic partner, child, or other dependent solely to obtain a qualified domestic relations order under 29 U.S.C. 1056(d) and 26 U.S.C. 414(p). PBGC will disclose the information only upon the receipt of a written request by a prospective alternate payee, or the alternate payee's representative, that describes the requester's relationship to the participant and states that the information will be used solely to obtain a qualified domestic relations order under state domestic relations law. PBGC will notify the participant of any information disclosed to a prospective alternate payee or their representative under this routine use.

7. Information from an initial benefit determination under 29 CFR 4003 (excluding the participant's address, telephone number, social security number, and any sensitive medical information) may be disclosed to an alternate payee, or their representative, under a qualified domestic relations order issued pursuant to 29 U.S.C. 1056(d) and 26 U.S.C. 414, et seq., to explain how PBGC determined the benefit due the alternate payee so that the alternate payee can pursue an administrative appeal of the benefit determination under 29 CFR 4003, et seq. PBGC will notify the participant of the information disclosed to an alternate payee or their representative under this routine use.

8. Information from an alternate payee's initial benefit determination under 29 CFR 4003.1 (excluding the alternate payee's address, telephone number, social security number, and any sensitive medical information) may be disclosed to a participant, or their representative, under a qualified domestic relations order issued pursuant to 29 U.S.C. 1056(d) and 26 U.S.C. 414(p) to explain how PBGC determined the benefit due to the alternate payee so that the participant may pursue an administrative appeal of the benefit determination under 29 CFR 4003, et seq. PBGC will notify the alternate payee of the information disclosed to a participant or their representative under this routine use.

9. Information used in calculating the benefit, or share of the benefit, of a participant or alternate payee (excluding the participant's or alternate payee's address, telephone number, social security number, and any sensitive medical information) may be disclosed to a participant or an alternate payee, or their representative, when (a) a qualified domestic relations order issued pursuant to 29 U.S.C. 1056(d) and 26 U.S.C. 414(p) affects the calculation of the benefit, or share of the benefit, of the participant or alternate payee; and (b) the information is needed to explain to the participant or alternate payee how PBGC calculated the benefit, or share of the benefit, of the participant or alternate payee. PBGC will notify the participant or the alternate payee, or their representative, as appropriate, of the information disclosed to the participant or the alternate payee, or their representative, under this routine use.

10. The names, addresses, social security numbers, dates of birth, and the pension plan name and number of eligible PBGC pension recipients may be disclosed to the Department of the Treasury and the Department of Labor to implement the income tax credit for health insurance costs under 26 U.S.C. 35 and the program for advance payment of the tax credit under 26 U.S.C. 7527.

11. Names, addresses, social security numbers, and dates of birth of eligible PBGC pension recipients residing in a particular state may be disclosed to the state's workforce agency if the agency received a National Dislocated Worker Grant from the Department of Labor under the Workforce Innovation and Opportunity Act of 2014 to provide assistance and support services for state residents under 29 U.S.C. 3225.

12. Payees' names, social security numbers, and dates of birth may be provided to the Department of the Treasury's Bureau of the Fiscal Service, the Social Security Administration, the Internal Revenue Service, or a third party with whom PBGC has a contractual relationship, to verify payees' eligibility to receive payments.

13. Names and social security numbers of participants and beneficiaries may be provided to the Department of the Treasury, the Department of the Treasury's financial agent, and the Federal Reserve Bank for the purpose of learning which of PBGC's check payees have electronic debit card accounts used for the electronic deposit of Federal benefit payments, for establishing electronic debit card accounts for eligible participants and beneficiaries, and for administering payments to participants and beneficiaries who have selected this method of payment.

14. Information relating to revocation of a power of attorney may be disclosed to the former agent that was named in the revoked power of attorney.

15. With the exception of third-party social security numbers, all beneficiary information contained in the participant file (such as: names, addresses, phone numbers, email addresses and dates of birth) provided by the subject of the record may be disclosed to the subject of the record, upon written request to the Disclosure Officer in accordance with the Record Access Procedure outlined below.

16. Names, social security numbers, last known addresses, dates of birth and death, amount of benefit, plan name, plan EIN/PIN number, name of plan sponsor, and the city and state of the plan sponsor of plan participants and beneficiaries may be disclosed to third parties, with whom PBGC has a contractual relationship, that provide locator services (including credit reporting agencies, debt collection firms, or other Federal agencies) to locate participants and beneficiaries. Such information will be disclosed only if PBGC has no address for an individual, if mail sent to the individual at the last known address is returned as undeliverable, if PBGC has been unable to make benefit payments to those participants, beneficiaries, and alternate payees because the address on file is unable to be confirmed as current or correct or if PBGC has been otherwise unsuccessful at contacting the individual. Disclosure may be made only under a contract that subjects the firm or agency providing the service and its employees to the civil and criminal penalties of the Privacy Act. The information so disclosed will be used exclusively pursuant to the terms and conditions of such contract and will be used solely for the purposes prescribed therein. The contract shall provide that the information so disclosed must be returned or destroyed at the conclusion of the locating effort.

17. Names and addresses may be disclosed to licensees of the United States Postal Service (USPS) to obtain current addresses under the USPS's National Change of Address Linkage System (NCOA). Disclosure may be made only under a contract that binds the licensee of the Postal Service and its employees to the civil and criminal penalties of the Privacy Act. The contract must provide that the records disclosed by PBGC will be used exclusively for updating addresses under NCOA and must be returned to PBGC or destroyed when the process is completed. The records will be exchanged electronically in an encrypted format.

18. Names, social security numbers, last known addresses, dates of birth and death, employment history, and pay status of individuals covered by legal settlement agreements involving PBGC may be disclosed to entities covered by or created under those agreements.

19. A record from this system may be disclosed to a consumer reporting agency in accordance with 31 U.S.C. 3711(e).

20. A record from this system may be disclosed to law enforcement in the event the record is connected to a violation or potential violation of law, whether civil, criminal or regulatory in nature, and whether arising by general statute, regulation, rule, or order issued pursuant thereto. Such disclosure may be made to the appropriate agency, whether federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

21. A record from this system of records may be disclosed to a federal, state, tribal or local agency or to another public or private source maintaining civil, criminal, or other relevant enforcement information or other pertinent information if, and to the extent necessary, to obtain information relevant to a PBGC decision concerning the hiring or retention of an employee, the retention of a security clearance, or the letting of a contract.

22. A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant and necessary to the proceeding and that the use is compatible with the purpose for which PBGC collected the information.

23. When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant and necessary to the proceeding and that the use is compatible with the purpose for which PBGC collected the information.

24. A record from this system of records may be disclosed to OMB in connection with the review of private relief legislation as set forth in OMB Circular No. A-19 at any stage of the legislative coordination and clearance process as set forth in that Circular.

25. A record from this system of records may be disclosed to a congressional office in response to an inquiry from the congressional office made at the request of the individual.

26. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

27. To contractors, experts, consultants, and the agents thereof, and others performing or working on a contract, service, cooperative agreement, or other assignment for PBGC when necessary to accomplish an agency function. Individuals provided information under this routine use are subject to the same Privacy Act requirements and limitations on disclosure as are applicable to PBGC employees.

28. To the National Archives and Records Administration or to the General Services Administration for records management inspections conducted under 44 U.S.C. 2904 and 2906.

29. To any source from which information is requested in the course of processing a grievance, investigation, arbitration, or other litigation, to the extent necessary to identify the individual, inform the source of the purpose(s) of the request, and identify the type of information requested.

30. To disclose information to a federal agency, in response to its request, in connection with hiring or retaining an employee, issuing a security clearance, conducting a security or suitability investigation of an individual, or classifying jobs, to the extent that the information is relevant and necessary to the requesting agency's decision on the matter.

31. To another federal agency or federal entity, when information from this system of records is reasonably necessary to assist the recipient agency or entity in (1) responding to a suspected or confirmed breach or (2) preventing, minimizing, or remedying the risk of harm to individuals, the agency (including its information systems, programs, and operations), the Federal Government, or national security.

32. To Another Agency or Non-Federal Entity in Connection with an OIG Audit, Investigation, or Inspection: To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name; social security number; customer identification number; address; date of birth; or date of death.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 2.1: Plan, Participant, and Insurance Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

Paper and electronic records that contain Federal Tax Information are stored under procedures that meet IRS safeguarding standards, as reflected in IRS Publication 1075, and are kept in file folders in areas of restricted access that are locked after office hours.

RECORD ACCESS PROCEDURES:

Individuals, or third parties with written authorization from the individual, wishing to request access to their records in accordance with 29 CFR 4902.4 or to amend records pertaining to themselves in accordance with 29 CFR 4902.5, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-6, Plan Participant and Beneficiary Data (last published at 87 FR 79002 (Dec. 23, 2022)).

SYSTEM NAME AND NUMBER:

PBGC-8: Employee Relations Files.

SECURITY CLASSIFICATION:

Unclassified.

SYSTEM LOCATION:

Pension Benefit Guaranty Corporation (PBGC), 445 12th Street SW, Washington, DC 20024-2101 (Records may be kept at an additional location as backup for continuity of operations.)

SYSTEM MANAGER(S):

Director, Human Resources Department, PBGC, 445 12th Street SW, Washington, DC 20024-2101.

AUTHORITY FOR MAINTENANCE OF THE SYSTEM:

29 U.S.C. 1302; 44 U.S.C. 3101; 5 U.S.C. 301; 5 U.S.C. 7101; 42 U.S.C. 2000e et seq.

PURPOSE(S) OF THE SYSTEM:

The purpose of this system is to catalog, investigate, and appropriately and timely respond to administrative and union grievances and appeals filed by PBGC employees or the Union on behalf of an employee pursuant to PBGC's Administrative Grievance Procedure and the Collective Bargaining Agreement.

CATEGORIES OF INDIVIDUALS COVERED BY THE SYSTEM:

Current and former PBGC employees who have initiated grievances under an administrative grievance procedure or under an applicable collective bargaining agreement.

CATEGORIES OF RECORDS IN THE SYSTEM:

Administrative and union grievances submitted by PBGC employees or the Union; agency responses to employees and Union grievances; employees' appeals of responses to grievances; agency responses to such appeals and related correspondence; investigative notes; records of proceedings; appeal decisions; last chance, last rights, and settlement agreements, and related information.

RECORD SOURCE CATEGORIES:

Subject individuals; subject individuals' supervisors, managers, representatives or colleagues; PBGC Office of the General Counsel; PBGC Human Resources Department staff; Department of Labor; Office of Personnel Management; United States Office of Special Counsel; Federal Labor Relations Authority; the Equal Employment Opportunity Commission; the Merit Systems Protection Board; and other individuals with relevant information.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system of records may be disclosed to the Office of Personnel Management, the Merit Systems Protection Board, the Federal Labor Relations Authority, Office of Special Counsel, or the Equal Employment Opportunity Commission to carry out their authorized functions (under 5 U.S.C. 1103, 1204, 7105, and 42 U.S.C. 2000e-4, in that order).

2. A record from this system may be disclosed to a union representative, attorney, Hearing Examiner or Arbitrator for the purpose of representation or in order to conduct a hearing in connection with an employee's grievance or appeal.

3. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

4. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

5. With the approval of the Director, Human Resources Department (or his or her designee), the fact that this system of records includes information relevant to a Federal agency's decision in connection with the hiring or retention of an employee, the retention of a security clearance, the letting of a contract, or the issuance of a license, grant, or other benefit may be disclosed to that Federal agency.

6. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

7. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

8. A record from this system of records may be disclosed to OMB in connection with the review of private relief legislation as set forth in OMB Circular No. A-19 at any stage of the legislative coordination and clearance process as set forth in that Circular.

9. A record from this system of records may be disclosed to a congressional office in response to an inquiry from the congressional office made at the request of the individual.

10. A record from this system of records may be disclosed to an official of a labor organization recognized under 5 U.S.C. ch. 71 when necessary for the labor organization to properly perform its duties as the collective bargaining representative of PBGC employees in the bargaining unit.

11. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

12. To contractors, experts, consultants, and the agents thereof, and others performing or working on a contract, service, cooperative agreement, or other assignment for PBGC when necessary to accomplish an agency function. Individuals provided information under this routine use are subject to the same Privacy Act requirements and limitations on disclosure as are applicable to PBGC employees.

13. To the National Archives and Records Administration or to the General Services Administration for records management inspections conducted under 44 U.S.C. 2904 and 2906.

14. To disclose information to a Federal agency, in response to its request, in connection with hiring or retaining an employee, issuing a security clearance, conducting a security or suitability investigation of an individual, or classifying jobs, to the extent that the information is relevant and necessary to the requesting agency's decision on the matter.

15. To another Federal agency or non-Federal entity to compare such records in the agency's system of records or to non-Federal records in coordination with the Office of Inspector General conducting an audit, investigation, inspection, or some other review as authorized by the Inspector General Act, as amended.

16. To another Federal agency or Federal entity, when information from this system of records is reasonably necessary to assist the recipient agency or entity in (1) responding to a suspected or confirmed breach or (2) preventing, minimizing, or remedying the risk of harm to individuals, the agency (including its information systems, programs, and operations), the Federal Government, or national security.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by employee name or social security number.

Retention and Disposal:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, following the requirements of Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-8, Employee Relations Files (last published at 83 FR 6258 (Feb. 13, 2018)).

SYSTEM NAME AND NUMBER:

PBGC-9: Unclaimed Retirement Funds.

SECURITY CLASSIFICATION:

Unclassified.

SYSTEM LOCATION:

Pension Benefit Guaranty Corporation (PBGC), 445 12th Street SW, Washington, DC 20024-2101 and paying agent worksites. (Records may be kept at an additional location as backup for continuity of operations.)

SYSTEM MANAGER(S):

Chief of Benefits Administration, Office of Benefits Administration, PBGC, 445 12th Street SW, Washington, DC 20024-2101.

AUTHORITY FOR MAINTENANCE OF THE SYSTEM:

29 U.S.C. 1055, 1056(d)(3), 1302, 1321, 1322, 1322a, 1341, 1342, and 1350; 29 U.S.C. 1203; 44 U.S.C. 3101; 5 U.S.C. 301.

PURPOSE(S) OF THE SYSTEM:

This system of records is maintained to locate participants, alternate payees, and beneficiaries of defined benefit and defined contribution plan funds who may be owed benefits as the result of a terminated plan or defined contribution plan whose funds are held under the control or authority of PBGC, and to provide information on insurance companies to individuals who may have had annuities purchased for them by a terminated plan.

CATEGORIES OF INDIVIDUALS COVERED BY THE SYSTEM:

Participants, alternate payees, and beneficiaries in defined benefit plans and defined contribution plans.

CATEGORIES OF RECORDS IN THE SYSTEM:

Names; dates of birth and death; social security numbers; addresses; email addresses; telephone numbers; names of plan sponsor; names of defined benefit and defined contribution plans; plan numbers for defined benefit and defined contribution plans; employment history; pay status; amount of benefit owed; last known address of the plan sponsor and plan sponsor EIN/PN.

RECORD SOURCE CATEGORIES:

PBGC-6; the SSA; the FAA; the IRS; other Federal agencies; plan administrators; plan sponsors; insurance companies; labor organization officials; firms or agencies providing locator services; USPS licensees; and any other individual that provides PBGC with information regarding a missing participant, beneficiary, or alternate payee.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. Names and social security numbers of plan participants, beneficiaries, and alternate payees may be disclosed to the Internal Revenue Service (IRS) to obtain current addresses from tax return information and to the Social Security Administration (SSA) to obtain current addresses. Such information will be disclosed only if PBGC has no address for an individual or if mail sent to the individual at the last known address is returned as undeliverable.

2. Names and last known addresses may be disclosed to an official of a labor organization recognized as the collective bargaining representative of participants for posting in union halls or for other means of publication to obtain current addresses of participants and beneficiaries. Such information will be disclosed only if PBGC has no address for an individual, if mail sent to the individual at the last known address is returned as undeliverable, or PBGC is unable to make benefit payments to those participants, beneficiaries, and alternate payees because the address on file is unable to be confirmed as current or correct or if PBGC has been otherwise unsuccessful at contacting the individual.

3. Names, social security numbers, last known addresses, dates of birth and death, amount of benefit, retirement plan name, plan EIN/PN number, name of plan sponsor, and the city and state of the plan sponsor may be disclosed to private firms and agencies that provide locator services, including credit reporting agencies and debt collection firms or agencies, to locate participants, beneficiaries, and alternate payees. Such information will be disclosed only if PBGC has no address for an individual, if mail sent to the individual at the last known address is returned as undeliverable, if PBGC has no address for an individual, if mail sent to the individual at the last known address is returned as undeliverable, or if PBGC has been otherwise unsuccessful at contacting the individual or if PBGC is unable to make benefit payments to those participants, beneficiaries, and alternate payees because the address on file is unable to be confirmed as current or correct or if PBGC has been otherwise unsuccessful at contacting the individual. Disclosure may be made only under a contract that subjects the firm or agency providing the service and its employees and contractors to the civil and criminal penalties of the Privacy Act. The information so disclosed will be used exclusively pursuant to the terms and conditions of such contract and must be used solely for the purposes prescribed therein. The contract must provide that the information so disclosed will be returned or destroyed at the conclusion of the locating effort.

4. Names and addresses may be disclosed to licensees of the United States Postal Service (USPS) to obtain current addresses under the USPS's National Change of Address Linkage System (NCOA). Disclosure may be made only under a contract that binds the licensee of the Postal Service and its employees to the civil and criminal penalties of the Privacy Act. The contract must provide that the records disclosed by PBGC will be used exclusively for updating addresses under NCOA and must be returned to PBGC or destroyed when the process is completed. The records will be exchanged electronically in an encrypted format.

5. Names and last known addresses may be disclosed to other participants in, and beneficiaries under, a retirement plan to obtain the current addresses of individuals. Such information will be disclosed only if PBGC has no address for an individual or if mail sent to the individual at the last known address is returned as undeliverable.

6. Names of participants and beneficiaries, names and addresses of participants' former employers, and the plan name may be disclosed to the public to obtain the current addresses for participants, beneficiaries, and alternate payees. Should PBGC disclose information under this routine use, it may be disclosed to the public by publishing on PBGC.GOV website when PBGC is unable to make benefit payments to those participants, beneficiaries, and alternate payees because the address on file is unable to be confirmed as current or correct.

7. Names, social security numbers, last known addresses, dates of birth and death, employment history, and pay status of individuals covered by legal settlement agreements involving PBGC may be disclosed to entities covered by or created under those agreements.

8. Names, social security numbers, last known addresses, dates of birth, and benefit amounts owed may be disclosed to other government agencies under a Memorandum of Understanding or an Interagency Agreement in order to locate missing participants.

9. Names, social security numbers, dates of birth and death, name of plan sponsors, plan sponsor EIN/PN may be periodically disclosed to insurance companies where annuities have been purchased by a terminated plan.

10. A record from this system may be disclosed to law enforcement in the event the record is connected to a violation or potential violation of law, whether civil, criminal or regulatory in nature, and whether arising by general statute, regulation, rule, or order issued pursuant thereto. Such disclosure may be made to the appropriate agency, whether federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

11. A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant and necessary to the proceeding and that the use is compatible with the purpose for which PBGC collected the information.

12. When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant and necessary to the proceeding and that the use is compatible with the purpose for which PBGC collected the information.

13. A record from this system of records may be disclosed to OMB in connection with the review of private relief legislation as set forth in OMB Circular No. A-19 at any stage of the legislative coordination and clearance process as set forth in that Circular.

14. A record from this system of records may be disclosed to a congressional office in response to an inquiry from the congressional office made at the request of the individual.

15. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

16. To contractors, experts, consultants, and the agents thereof, and others performing or working on a contract, service, cooperative agreement, or other assignment for PBGC when necessary to accomplish an agency function. Individuals provided information under this routine use are subject to the same Privacy Act requirements and limitations on disclosure as are applicable to PBGC employees.

17. To the National Archives and Records Administration or to the General Services Administration for records management inspections conducted under 44 U.S.C. 2904 and 2906.

18. To disclose information to a federal agency, in response to its request, in connection with hiring or retaining an employee, issuing a security clearance, conducting a security or suitability investigation of an individual, or classifying jobs, to the extent that the information is relevant and necessary to the requesting agency's decision on the matter.

19. To another federal agency or federal entity, when information from this system of records is reasonably necessary to assist the recipient agency or entity in (1) responding to a suspected or confirmed breach or (2) preventing, minimizing, or remedying the risk of harm to individuals, the agency (including its information systems, programs, and operations), the Federal Government, or national security.

20. To Another Agency or Non-Federal Entity in Connection with an OIG Audit, Investigation, or Inspection: To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by employee name, social security number and/or date of birth.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 2.1: Plan, Participant, and Insurance Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-9, Unclaimed Pensions (amended to Unclaimed Retirement Funds) (last published at 83 FR 6256 (Feb. 13, 2018)).

SYSTEM NAME AND NUMBER:

PBGC-10: Administrative Appeals Files.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Manager of the Appeals Division, Office of the General Counsel, PBGC, 445 12th Street SW, Washington, DC 20024-2101.

AUTHORITY FOR MAINTENANCE OF THE SYSTEM:

29 U.S.C. 1302; 44 U.S.C. 3101; 5 U.S.C. 301; 29 U.S.C. ch. 18; 29 CFR 4003.

PURPOSE(S) OF THE SYSTEM:

The purpose of this system is to catalog, review, and respond to administrative appeals of PBGC determinations (such as plan, benefit, qualified domestic relations order, payment, and liability determinations) by plan participants, beneficiaries and employers.

CATEGORIES OF INDIVIDUALS COVERED BY THE SYSTEM:

Individuals who file administrative appeals with the PBGC Appeals Board.

CATEGORIES OF RECORDS IN THE SYSTEM:

Personal information (such as names, addresses, social security numbers, gender, dates of birth, dates of hire and termination, salary, marital status, marriage certificates, birth certificates, domestic relations orders, medical records); employment and pension plan information (such as the name of the pension plan, plan number, dates of commencement of plan participation or employment, statements regarding employment, dates of termination of plan participation or retirement, benefit payment data, benefit election forms and data on beneficiaries, pay status, calculations of benefit amounts, calculations of amounts subject to recoupment and/or recovery, and worker's compensation awards); Social Security Administration (SSA) information; insurance claims and awards; correspondence; and other information relating to appeals and initial and final PBGC determinations.

RECORD SOURCE CATEGORIES:

Subject individuals; participants, beneficiaries, or alternate payees; attorney or other authorized representative; plan administrators, plan actuaries, paying agents, purchased annuity providers, contributing sponsors (or other employer who maintained the plan, which may include any predecessor, successor, or member of the same control group); the labor organization recognized as the collective bargaining representative of a participant; SSA; other individuals who possess relevant records; and any third party affected by the decision.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to third parties who may be aggrieved by the decision of the Appeals Board under 29 CFR 4003.57.

2. A record from this system may be disclosed, upon request, to an attorney representative or a non-attorney representative who has a power of attorney for the subject individuals, under 29 CFR 4003.6.

3. A record from this system may be disclosed to third parties, such as banks, insurance companies, and trustees, to effectuate benefit payments to plan participants, beneficiaries, and/or alternate payees.

4. A record from this system may be disclosed to third parties, such as contractors and expert witnesses, to obtain expert analysis of an issue necessary to resolve an appeal.

5. A record from this system, specifically, the name and social security number of a participant, may be disclosed to an official of a labor organization recognized as the collective bargaining representative of the participant to obtain information relevant to the resolution of an appeal.

6. A record from this system may be disclosed to a consumer reporting agency in accordance with 31 U.S.C. 3711(e).

7. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

8. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

9. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

10. A record from this system of records may be disclosed to OMB in connection with the review of private relief legislation as set forth in OMB Circular No. A-19 at any stage of the legislative coordination and clearance process as set forth in that Circular.

11. A record from this system of records may be disclosed to a congressional office in response to an inquiry from the congressional office made at the request of the individual.

12. A record from this system of records may be disclosed to an official of a labor organization recognized under 5 U.S.C. ch. 71 when necessary for the labor organization to properly perform its duties as the collective bargaining representative of PBGC employees in the bargaining unit.

13. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm

14. To contractors, experts, consultants, and the agents thereof, and others performing or working on a contract, service, cooperative agreement, or other assignment for PBGC when necessary to accomplish an agency function. Individuals provided information under this routine use are subject to the same Privacy Act requirements and limitations on disclosure as are applicable to PBGC employees.

15. To the National Archives and Records Administration or to the General Services Administration for records management inspections conducted under 44 U.S.C. 2904 and 2906.

16. To any source from which information is requested in the course of processing a grievance, investigation, arbitration, or other litigation, to the extent necessary to identify the individual, inform the source of the purpose(s) of the request, and identify the type of information requested.

17. To disclose information to a Federal agency, in response to its request, in connection with hiring or retaining an employee, issuing a security clearance, conducting a security or suitability investigation of an individual, or classifying jobs, to the extent that the information is relevant and necessary to the requesting agency's decision on the matter.

18. To another Federal agency or Federal entity, when information from this system of records is reasonably necessary to assist the recipient agency or entity in (1) responding to a suspected or confirmed breach or (2) preventing, minimizing, or remedying the risk of harm to individuals, the agency (including its information systems, programs, and operations), the Federal Government, or national security.

19. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: participant, beneficiary, and/or alternate payee's name, social security number, or PBGC customer identification number; plan name; appeal number; or extension request number.

Electronic records are stored on computer networks, which may include cloud-based systems, and protected by controlled access with Personal Identity Verification (PIV) cards, assigning user accounts to individuals needing access to the records and by passwords set by authorized users that must be changed periodically.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-10, Administrative Appeals Files (last published at 83 FR 6260 (Feb. 13, 2018)).

SYSTEM NAME AND NUMBER:

PBGC-11: Call Detail Records.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Chief Information Officer, Office of Information Technology, PBGC, 445 12th Street SW, Washington, DC 20024-2101.

AUTHORITY FOR MAINTENANCE OF THE SYSTEM:

29 U.S.C. 1302; 44 U.S.C. 3101; 5 U.S.C. 301.

PURPOSE(S) OF THE SYSTEM:

This system of records is used for Office of the Inspector General investigations and other special investigation requests.

CATEGORIES OF INDIVIDUALS COVERED BY THE SYSTEM:

PBGC employees, contractors, students and interns.

CATEGORIES OF RECORDS IN THE SYSTEM:

Records relating to the use of PBGC-issued communications devices or communications software on PBGC-issued computers, portable electronic devices, or desktop telephones, used to send communications internally within or externally from PBGC and used to receive communications internally within or externally from PBGC, and records indicating the assignment of PBGC-issued communications devices or communications software to PBGC employees.

RECORD SOURCE CATEGORIES:

Assignment records for PBGC-issued communications devices or communications software on PBGC-issued computers, portable electronic devices, or desktop telephones.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. With the approval of the Director, Human Resources Department (or his or her designee), the fact that this system of records includes information relevant to a Federal agency's decision in connection with the hiring or retention of an employee, the retention of a security clearance, the letting of a contract, or the issuance of a license, grant, or other benefit may be disclosed to that Federal agency.

3. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

4. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

5. A record from this system of records may be disclosed to a congressional office in response to an inquiry from the congressional office made at the request of the individual.

6. A record from this system of records may be disclosed to an official of a labor organization recognized under 5 U.S.C. ch. 71 when necessary for the labor organization to properly perform its duties as the collective bargaining representative of PBGC employees in the bargaining unit.

7. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

8. To contractors, experts, consultants, and the agents thereof, and others performing or working on a contract, service, cooperative agreement, or other assignment for PBGC when necessary to accomplish an agency function. Individuals provided information under this routine use are subject to the same Privacy Act requirements and limitations on disclosure as are applicable to PBGC employees.

9. To the National Archives and Records Administration or to the General Services Administration for records management inspections conducted under 44 U.S.C. 2904 and 2906.

10. To any source from which information is requested in the course of processing a grievance, investigation, arbitration, or other litigation, to the extent necessary to identify the individual, inform the source of the purpose(s) of the request, and identify the type of information requested.

11. To disclose information to a Federal agency, in response to its request, in connection with hiring or retaining an employee, issuing a security clearance, conducting a security or suitability investigation of an individual, or classifying jobs, to the extent that the information is relevant and necessary to the requesting agency's decision on the matter.

12. To another Federal agency or Federal entity, when information from this system of records is reasonably necessary to assist the recipient agency or entity in (1) responding to a suspected or confirmed breach or (2) preventing, minimizing, or remedying the risk of harm to individuals, the agency (including its information systems, programs, and operations), the Federal Government, or national security.

13. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained in electronic form (including computer databases or discs). Records may also be maintained on back-up tapes, or on a PBGC or a contractor-hosted network.

POLICIES AND PRACTICES FOR RETRIEVAL OF RECORDS:

Records are retrieved by any one or more of the following: name of employee or contractor; telephone extension number; PBGC-issued portable electronic device number; or telephone number called.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 2.2: Governance Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-11, Call Detail Records (last published at 83 FR 6261 (Feb. 13, 2018)).

SYSTEM NAME AND NUMBER:

PBGC-12: Personnel Security Investigation Records.

SECURITY CLASSIFICATION:

Unclassified.

SYSTEM LOCATION:

Pension Benefit Guaranty Corporation (PBGC), 445 12th Street SW, Washington, DC 20024-2101 (Records may be kept at an additional location as backup for continuity of operations.)

SYSTEM MANAGER(S):

Department Director, Information Technology Infrastructure Operations Department, PBGC, 445 12th Street SW, Washington, DC 20024-2101.

AUTHORITY FOR MAINTENANCE OF THE SYSTEM:

29 U.S.C. 1302; 5 U.S.C. 3301; 44 U.S.C. 3101; Executive Order 10577; Executive Order 12968; Executive Order 13467; Executive Order 13488; 5 CFR 5.2; 5 CFR 731, 732 and 736; 5 CFR 1400; OMB Circular No. A-130 Revised; Federal Information Processing Standard 201; Homeland Security Presidential Directive 12.

PURPOSE(S) OF THE SYSTEM:

The records in this system of records are used to document and support decisions as to the suitability, eligibility, and fitness for service of applicants for Federal employment and contract positions, and may include students, interns, or vendors to the extent their duties require access to Federal facilities, information, information systems, or applications.

The records may also be used to help streamline and make the background suitability investigations and adjudications processes more efficient.

The records additionally may be used for insider threat investigations, to document security violations and supervisory actions taken in response to such violations, and to support PBGC's participation in continuous vetting processes that conduct automated database checks.

CATEGORIES OF INDIVIDUALS COVERED BY THE SYSTEM:

Current and former applicants, employees, students, interns, government contractors, experts, instructors, vendors, and consultants to Federal programs who undergo a personnel background investigation to determining suitability for employment, contractor employee fitness, credentialing for Homeland Security Presidential Directive 12, and/or access to PBGG facilities or information technology system. Individuals who have corresponded with PBGC regarding personnel security investigations. This system also includes individuals accused of or found in violation of PBGC's security rules and regulations.

CATEGORIES OF RECORDS IN THE SYSTEM:

Name; former names; date and place of birth; home address; email address; phone numbers; employment history; residential history; education and degrees; citizenship; passport information; name, date and place of birth, social security number, and citizenship information for spouse or cohabitant; the name and marriage information for current and former spouse(s) or domestic partner, names of associates and references and their contact information; names, dates and places of birth, citizenship, and addresses of relatives; names of relatives who work for the Federal government; information on foreign contacts and activities; association records; information on loyalty to the United States; criminal history; mental health history; drug use; financial information; photographs; personal identity verification (PIV) card information; information from the Internal Revenue Service (IRS) pertaining to income tax returns; credit reports; information pertaining to security clearances; other agency reports furnished to PBGC in connection with the background investigation process; summaries of personal and third party interviews conducted during the background investigation; results of suitability decisions; and additional records developed from records above.

Records pertaining to security violations may contain information pertaining to circumstances of the violation; witness statements; investigator's notes; and documentation of agency action taken in response to security violations.

RECORD SOURCE CATEGORIES:

Questionnaires for national security, public trust, or non-sensitive positions; information from personal interviews with the applicant and various individuals, such as former employers, references, neighbors, and other associates who may have information about the subject of the investigation; investigative records and notices of personnel actions furnished by other Federal agencies; public records such as court filings; publications such as newspapers, magazines, and periodicals; tax records; educational institutions; police departments; credit bureaus; probation officials; prison officials; and medical professionals.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record, from which information is requested during an investigation or during continuous monitoring of investigations from this system, may be disclosed to an authorized source (i.e., someone who has the legal authority to request such information, such as an investigator from the Federal agency conducting background investigations, or the Office of the Inspector General) to the extent necessary to identify the individual, inform the source of the nature and purpose of the investigation, or identify the type of information requested.

2. A record from this system of records may be disclosed to the Federal agency conducting background investigations, the Office of Personnel Management, the Merit Systems Protection Board, the Federal Labor Relations Authority, or the Equal Employment Opportunity Commission to carry out its respective authorized functions (under 5 U.S.C. 1204, and 7105, and 42 U.S.C. 2000e-4).

3. To designated officers and employees of agencies, offices, and other establishments in the executive, legislative, and judicial branches of the Federal Government, having a need to evaluate qualifications, suitability, and loyalty to the United States Government and/or a security clearance or access determination.

4. To designated officers and employees of agencies, offices, and other establishments in the executive, legislative, and judicial branches of the Federal Government, when such agency, office, or establishment investigates an individual for purposes of granting a security clearance, or for the purpose of making a determination of qualifications, suitability, or loyalty to the United States Government, or access to classified information or restricted areas.

5. To designated officers and employees of agencies, offices, and other establishments in the executive, judicial, or legislative branches of the Federal Government, having the responsibility to grant clearances to make a determination regarding access to classified information or restricted areas, or to evaluate qualifications, suitability, or loyalty to the United States Government, in connection with performance of a service to the Federal Government under a contract or other agreement.

6. To U.S. intelligence agencies for use in intelligence activities.

7. To the appropriate Federal, state, tribal, local, or other public authority responsible for investigating, prosecuting, enforcing, or implementing a statute, rule, regulation, or order where OPM becomes aware of an indication of a violation or potential violation of civil or criminal law or regulation.

8. To an agency, office, or other establishment in the executive, legislative, or judicial branches of the Federal Government, in response to its request, in connection with the hiring or retention of an employee, the issuance of a security clearance, the conducting of a security or suitability investigation of an individual, the classifying of jobs, the letting of a contract, or the issuance of a license, grant, or other benefit by the requesting agency, to the extent that the information is relevant and necessary to the requesting agency's decision on the matter.

9. To provide information to a congressional office from the record of an individual in response to an inquiry from the congressional office made at the request of that individual. However, to the extent these records may reveal the identity of an individual who has provided information pertaining to the investigation, the investigative file, or the parts thereof, are exempt from release. Further, requests for records contained in this system will be referred to the Federal agency conducting background investigations.

10. To disclose information to contractors, experts, consultants, or students performing or working on a contract, service, or job for PBGC.

11. To disclose results of investigations or individuals records to agencies, such as the Department of Labor, providing adjudicative support services to PBGC.

12. To provide criminal history record information to the FBI, to help ensure the accuracy and completeness of FBI and PBGC records.

13. To provide information to PBGC's Insider Threat program in conjunction with determining the severity of the risk, if any, posed by an employee or contractor.

14. A record from this system may be disclosed to law enforcement in the event the record is connected to a violation or potential violation of law, whether civil, criminal or regulatory in nature, and whether arising by general statute, regulation, rule, or order issued pursuant thereto. Such disclosure may be made to the appropriate agency, whether federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

15. A record from this system of records may be disclosed to a federal, state, tribal or local agency or to another public or private source maintaining civil, criminal, or other relevant enforcement information or other pertinent information if, and to the extent necessary, to obtain information relevant to a PBGC decision concerning the hiring or retention of an employee, the retention of a security clearance, or the letting of a contract.

16. With the approval of the Director, Human Resources Department (or his or her designee), the fact that this system of records includes information relevant to a federal agency's decision in connection with the hiring or retention of an employee, the retention of a security clearance, the letting of a contract, or the issuance of a license, grant, or other benefit may be disclosed to that federal agency.

17. A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant and necessary to the proceeding and that the use is compatible with the purpose for which PBGC collected the information.

18. When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant and necessary to the proceeding and that the use is compatible with the purpose for which PBGC collected the information.

19. A record from this system of records may be disclosed to OMB in connection with the review of private relief legislation as set forth in OMB Circular No. A-19 at any stage of the legislative coordination and clearance process as set forth in that Circular.

20. A record from this system of records may be disclosed to a congressional office in response to an inquiry from the congressional office made at the request of the individual.

21. A record from this system of records may be disclosed to an official of a labor organization recognized under 5 U.S.C. ch. 71 when necessary for the labor organization to properly perform its duties as the collective bargaining representative of PBGC employees in the bargaining unit.

22. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

23. To contractors, experts, consultants, and the agents thereof, and others performing or working on a contract, service, cooperative agreement, or other assignment for PBGC when necessary to accomplish an agency function. Individuals provided information under this routine use are subject to the same Privacy Act requirements and limitations on disclosure as are applicable to PBGC employees.

24. To the National Archives and Records Administration or to the General Services Administration for records management inspections conducted under 44 U.S.C. 2904 and 2906.

25. To any source from which information is requested in the course of processing a grievance, investigation, arbitration, or other litigation, to the extent necessary to identify the individual, inform the source of the purpose(s) of the request, and identify the type of information requested.

26. To disclose information to a federal agency, in response to its request, in connection with hiring or retaining an employee, issuing a security clearance, conducting a security or suitability investigation of an individual, or classifying jobs, to the extent that the information is relevant and necessary to the requesting agency's decision on the matter.

27. To another federal agency or federal entity, when information from this system of records is reasonably necessary to assist the recipient agency or entity in (1) responding to a suspected or confirmed breach or (2) preventing, minimizing, or remedying the risk of harm to individuals, the agency (including its information systems, programs, and operations), the Federal Government, or national security.

28. To Another Agency or Non-Federal Entity in Connection with an OIG Audit, Investigation, or Inspection: To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name; social security number; unique case serial number; or other unique identifier.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

Pursuant to 5 U.S.C. 552a(k)(2), records in this system are exempt from the requirements of subsections (c)(3), (d), (e)(1), (e)(4) (G), (H), (I), and (f) of 5 U.S.C. 552a, provided, however, that if any individual is denied any right, privilege, or benefit that he or she would otherwise be entitled to by Federal law, or for which he or she would otherwise be eligible, as a result of the maintenance of these records, such material will be provided to the individual, except to the extent that the disclosure of the material would reveal the identity of a source who furnished information to the Government with an express promise that the identity of the source would be held in confidence.

HISTORY:

PBGC-12, Personnel Security Investigation Records (last published at 83 FR 6262 (Feb. 13, 2018)).

SYSTEM NAME AND NUMBER:

PBGC-13: Debt Collection

SECURITY CLASSIFICATION:

Unclassified

SYSTEM LOCATION:

Pension Benefit Guaranty Corporation (PBGC), 445 12th Street SW, Washington, DC 20024-2101 and/or plan administrator worksites, and paying agents worksites. (Records may be kept at an additional location as backup for continuity of operations.)

SYSTEM MANAGER(S):

Director, Financial Operations Department, PBGC, 445 12th Street SW, Washington, DC 20024-2101.

Chief of Benefits Administration, Office of Benefits Administration, PBGC, 445 12th Street SW, Washington, DC 20024-2101.

AUTHORITY FOR MAINTENANCE OF THE SYSTEM:

29 U.S.C. 1302; 31 U.S.C. 3711(a); 44 U.S.C. 3101; 5 U.S.C. 301; Executive Order 13019.

PURPOSE(S) OF THE SYSTEM:

This system of records is maintained for the purpose of collecting debts owed to PBGC by various individuals, including, but not limited to, pension plans and/or sponsors owing insurance premiums, interest and penalties; PBGC employees and former employees; consultants and vendors; participants, alternate payees, and beneficiaries in retirement plans coming under the control or authority of PBGC; and individuals who received payments from PBGC to which they are not entitled. This system facilitates PBGC's compliance with the Debt Collection Improvement Act of 1996.

CATEGORIES OF INDIVIDUALS COVERED BY THE SYSTEM:

Any individual who may owe a debt to PBGC, including but not limited to: pension plans and/or sponsors owing insurance premiums, interest, and penalties; employees and former employees of PBGC; individuals who are consultants and vendors to PBGC; participants, alternate payees, and beneficiaries in terminating and terminated defined benefit or defined contribution plans coming under the control or authority of PBGC; and any individual who received payments to which they are not entitled.

CATEGORIES OF RECORDS IN THE SYSTEM:

Plan filings; names; addresses; social security numbers; taxpayer identification numbers; employee numbers; pay records; travel vouchers and related documents filed by PBGC employees; invoices filed by consultants and vendors to PBGC; records of benefit payments made to participants, alternate payees, and beneficiaries in plans covered by ERISA; and other relevant records relating to a debt including financial information, bank account numbers, the amount, status, and history of the debt, and the program under which the debt arose.

RECORD SOURCE CATEGORIES:

Subject individuals; plan administrators; labor organization officials; debt collection agencies or firms; firms or agencies providing locator services; and other Federal agencies.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system of records may be disclosed to the United States Department of the Treasury for cross-servicing to effect debt collection in accordance with 31 U.S.C. 3711(e).

2. Names, addresses, and telephone numbers of employees, participants, beneficiaries, alternate payees and any other individual owing a debt to PBGC, and information pertaining to debts owed by such individuals to PBGC may be disclosed to a debt collection agency to collect a claim. Disclosure to a debt collection agency or firm may be made only under a contract that binds any such contractor or employee of such contractor to the criminal penalties of the Privacy Act. The information so disclosed will be used exclusively pursuant to the terms and conditions of such contract and will be used solely for the purposes prescribed therein. The contract must provide that the information so disclosed will be returned at the conclusion of the debt collection effort.

3. These records may be used to disclose information to any Federal agency, state or local agency, tribal governments, U.S. territory or commonwealth, or the District of Columbia, or their agents or contractors, including private collection agencies (consumer and commercial):

a. To facilitate the collection of debts through the use of any combination of various debt collection methods required or authorized by law, including, but not limited to:

i. Request for repayment by telephone or in writing;

ii. Negotiation of voluntary repayment or compromise agreements;

iii. Offset of Federal payments, which may include the disclosure of information contained in the records for the purpose of providing the debtor with appropriate pre-offset notice and to otherwise comply with offset prerequisites, to facilitate voluntary repayment in lieu of offset, and to otherwise effectuate the offset process;

iv. Referral of debts to private collection agencies, to Treasury designated debt collection centers, or for litigation;

v. Administrative and court-ordered wage garnishment;

vi. Debt sales;

vii. Publication of names and identities of delinquent debtors in the media or other appropriate news or websites; and

viii. Any other debt collection method authorized by law;

b. To collect a debt owed to the United States through the offset of payments made by states, territories, commonwealths, tribal governments, or the District of Columbia;

c. To account or report on the status of debts for which such entity has a financial or other legitimate need for the information in the performance of official duties; or

d. For any other appropriate debt collection purpose.

4. A record from this system may be disclosed to a consumer reporting agency in accordance with 31 U.S.C. 3711(e).

5. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

6. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

7. With the approval of the Director, Human Resources Department (or his or her designee), the fact that this system of records includes information relevant to a Federal agency's decision in connection with the hiring or retention of an employee, the retention of a security clearance, the letting of a contract, or the issuance of a license, grant, or other benefit may be disclosed to that Federal agency.

8. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

9. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

10. A record from this system of records may be disclosed to OMB in connection with the review of private relief legislation as set forth in OMB Circular No. A-19 at any stage of the legislative coordination and clearance process as set forth in that Circular.

11. A record from this system of records may be disclosed to a congressional office in response to an inquiry from the congressional office made at the request of the individual.

12. A record from this system of records may be disclosed to an official of a labor organization recognized under 5 U.S.C. ch. 71 when necessary for the labor organization to properly perform its duties as the collective bargaining representative of PBGC employees in the bargaining unit.

13. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

14. To contractors, experts, consultants, and the agents thereof, and others performing or working on a contract, service, cooperative agreement, or other assignment for PBGC when necessary to accomplish an agency function. Individuals provided information under this routine use are subject to the same Privacy Act requirements and limitations on disclosure as are applicable to PBGC employees.

15. To the National Archives and Records Administration or to the General Services Administration for records management inspections conducted under 44 U.S.C. 2904 and 2906.

16. To any source from which information is requested in the course of processing a grievance, investigation, arbitration, or other litigation, to the extent necessary to identify the individual, inform the source of the purpose(s) of the request, and identify the type of information requested.

17. To disclose information to a Federal agency, in response to its request, in connection with hiring or retaining an employee, issuing a security clearance, conducting a security or suitability investigation of an individual, or classifying jobs, to the extent that the information is relevant and necessary to the requesting agency's decision on the matter.

18. To another Federal agency or Federal entity, when information from this system of records is reasonably necessary to assist the recipient agency or entity in (1) responding to a suspected or confirmed breach or (2) preventing, minimizing, or remedying the risk of harm to individuals, the agency (including its information systems, programs, and operations), the Federal Government, or national security.

19. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: employer identification number; social security number; customer identification number; plan number; recovery tracking number; name of debtor, plan, plan sponsor, plan administrator, participant, alternate payee, or beneficiary.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-13, Debt Collection (last published at 83 FR 6264 (Feb. 13, 2018)).

SYSTEM NAME AND NUMBER:

PBGC-14: My Plan Administration Account Records.

SECURITY CLASSIFICATION:

Unclassified.

SYSTEM LOCATION:

Pension Benefit Guaranty Corporation (PBGC), 445 12th Street SW, Washington, DC 20024-2101 and at its Oracle Service Cloud. (Records may be kept at an additional location as backup for continuity of operations.)

SYSTEM MANAGER(S):

Director, Financial Operations Department, PBGC, 445 12th Street SW, Washington, DC 20024-2101.

AUTHORITY FOR MAINTENANCE OF THE SYSTEM:

29 U.S.C. 1302, 1306, and 1343; 44 U.S.C. 3101; 5 U.S.C. 301; 44 U.S.C. 3601, et seq.

PURPOSE(S) OF THE SYSTEM:

This system of records is maintained for use in verifying the identity of individuals who register to use the My PAA application to make PBGC filings, and receiving, authenticating, processing, and keeping a history of filings and premium payments submitted to PBGC by registered users. Information from this system is used to provide the public with contact information for plan sponsors, plan administrators, pension practitioners, actuaries and pension benefit professionals who submit plan information through My PAA.

CATEGORIES OF INDIVIDUALS COVERED BY THE SYSTEM:

Individuals who use the My Plan Administration Account (My PAA) application to make PBGC filings and payments electronically via PBGC's website (www.pbgc.gov), including individuals acting for plan sponsors, plan administrators, pension practitioners, actuaries, pension benefit professionals.

CATEGORIES OF RECORDS IN THE SYSTEM:

User name; email address and universally unique identifier (UUID) from Login.gov for account creation and authentication, work telephone number; work email address; other contact information; a temporary PBGC-issued user ID and password; a user-selected user ID and password; a secret question/secret answer combination for authentication; IP addresses; cookies (session and persistent); financial information; taxpayer identification number; bank information; for each pension plan for which the user intends to participate in making filings with PBGC: the plan name; employer identification number; plan number; the plan administrator's name, address, phone number, email address, and other contact information; and the role that the user will play in the filing process, e.g., creating and editing filings, signing filings electronically as the plan administrator, signing filings electronically as the enrolled actuary, or authorizing payments to PBGC.

RECORD SOURCE CATEGORIES:

Registered users; and the General Services Administration (GSA).

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. Names, addresses and phone numbers of plan sponsors, plan administrators, pension practitioners, actuaries and pension benefit professionals who submit plan information to My PAA may be disclosed to the public in order to ensure the public has access to contact information for those individuals submitting information regarding pension plans and those responsible for the administration of pension plans covered by the Employee Retirement Income Security Act of 1974 (ERISA).

2. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

3. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

4. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

5. A record from this system of records may be disclosed to OMB in connection with the review of private relief legislation as set forth in OMB Circular No. A-19 at any stage of the legislative coordination and clearance process as set forth in that Circular.

6. A record from this system of records may be disclosed to a congressional office in response to an inquiry from the congressional office made at the request of the individual.

7. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

8. To contractors, experts, consultants, and the agents thereof, and others performing or working on a contract, service, cooperative agreement, or other assignment for PBGC when necessary to accomplish an agency function. Individuals provided information under this routine use are subject to the same Privacy Act requirements and limitations on disclosure as are applicable to PBGC employees.

9. To any source from which information is requested in the course of processing a grievance, investigation, arbitration, or other litigation, to the extent necessary to identify the individual, inform the source of the purpose(s) of the request, and identify the type of information requested.

10. To disclose information to a Federal agency, in response to its request, in connection with hiring or retaining an employee, issuing a security clearance, conducting a security or suitability investigation of an individual, or classifying jobs, to the extent that the information is relevant and necessary to the requesting agency's decision on the matter.

11. To another Federal agency or Federal entity, when information from this system of records is reasonably necessary to assist the recipient agency or entity in (1) responding to a suspected or confirmed breach or (2) preventing, minimizing, or remedying the risk of harm to individuals, the agency (including its information systems, programs, and operations), the Federal Government, or national security.

12. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name; user ID; email address; telephone number; plan name; EIN; or plan number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 2.1: Plan, Participant, and Insurance Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-14, My Plan Administration Account Records (last published at 83 FR 6265 (Feb. 13, 2018)).

SYSTEM NAME AND NUMBER:

PBGC-15: Emergency Notification Records.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Director, Workplace Solutions Department, PBGC, 445 12th Street SW, Washington, DC 20024-2101.

AUTHORITY FOR MAINTENANCE OF THE SYSTEM:

29 U.S.C. 1302; 44 U.S.C. 3101; 5 U.S.C. 301; Executive Order 12656.

PURPOSE(S) OF THE SYSTEM:

This system of records is maintained for notifying PBGC employees, students, interns, and contractors of PBGC's operating status in the event of an emergency, natural disaster or other event affecting PBGC operations; and for contacting employees, students, interns, and contractors who are out of the office on leave or after regular duty hours to provide information necessary for official business.

CATEGORIES OF INDIVIDUALS COVERED BY THE SYSTEM:

PBGC employees, students, interns, and individuals who work for PBGC as contractors or as employees of contractors.

CATEGORIES OF RECORDS IN THE SYSTEM:

Name; title; organizational component; employer; PBGC and personal telephone numbers; PBGC and personal email addresses; other contact information; user ID; a temporary PBGC-issued password; and a user-selected password.

RECORD SOURCE CATEGORIES:

Subject individuals.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record in this system of records may be disclosed to family members, emergency medical personnel, or to law enforcement officials in case of a medical or other emergency involving compelling circumstances affecting the health or safety of the subject individual excepted by 5 U.S.C. 552a(b)(8).

2. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

3. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

4. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

5. A record from this system of records may be disclosed to a congressional office in response to an inquiry from the congressional office made at the request of the individual.

6. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

7. To contractors, experts, consultants, and the agents thereof, and others performing or working on a contract, service, cooperative agreement, or other assignment for PBGC when necessary to accomplish an agency function. Individuals provided information under this routine use are subject to the same Privacy Act requirements and limitations on disclosure as are applicable to PBGC employees.

8. To the National Archives and Records Administration or to the General Services Administration for records management inspections conducted under 44 U.S.C. 2904 and 2906.

9. To disclose information to a Federal agency, in response to its request, in connection with hiring or retaining an employee, issuing a security clearance, conducting a security or suitability investigation of an individual, or classifying jobs, to the extent that the information is relevant and necessary to the requesting agency's decision on the matter.

10. To another Federal agency or non-Federal entity to compare such records in the agency's system of records or to non-Federal records in coordination with the Office of Inspector General conducting an audit, investigation, inspection, or some other review as authorized by the Inspector General Act, as amended.

11. To another Federal agency or Federal entity, when information from this system of records is reasonably necessary to assist the recipient agency or entity in (1) responding to a suspected or confirmed breach or (2) preventing, minimizing, or remedying the risk of harm to individuals, the agency (including its information systems, programs, and operations), the Federal Government, or national security.

POLICIES AND PRACTICES FOR STORAGE OF RECORDS:

Records are maintained in electronic form (including computer databases or discs). Records may also be maintained on back-up tapes, or on a PBGC or a contractor-hosted network.

POLICIES AND PRACTICES FOR RETRIEVAL OF RECORDS:

Records are retrieved by any one or more of the following: name; organizational component; or user ID and password.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-15, Emergency Notification Records (last published at 83 FR 6266 (Feb. 13, 2018)).

SYSTEM NAME AND NUMBER:

PBGC-16: PBGC Connect Search Center.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Division Manager, Information Technology Customer and Operations Service Division, PBGC, 445 12th Street SW, Washington, DC 20024-2101.

AUTHORITY FOR MAINTENANCE OF THE SYSTEM:

29 U.S.C. 1302; 44 U.S.C. 3101; 5 U.S.C. 301.

PURPOSE(S) OF THE SYSTEM:

This system of records is used by PBGC employees, interns and contractors to identify other PBGC employees, interns and contractors; and to access contact information for PBGC employees, interns and contractors.

CATEGORIES OF INDIVIDUALS COVERED BY THE SYSTEM:

PBGC employees and contractors with PBGC network access.

CATEGORIES OF RECORDS IN THE SYSTEM:

Name; photograph; personal description; skills; interests; schools; birthday; mobile phone number; home phone number; organizational component and title; supervisor's name; PBGC street address; room or workstation number; PBGC network ID; work email address; and work telephone number and extension.

RECORD SOURCE CATEGORIES:

Subject individuals and PBGC personnel records.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

3. With the approval of the Director, Human Resources Department (or his or her designee), the fact that this system of records includes information relevant to a Federal agency's decision in connection with the hiring or retention of an employee, the retention of a security clearance, the letting of a contract, or the issuance of a license, grant, or other benefit may be disclosed to that Federal agency.

4. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

5. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

6. A record from this system of records may be disclosed to OMB in connection with the review of private relief legislation as set forth in OMB Circular No. A-19 at any stage of the legislative coordination and clearance process as set forth in that Circular.

7. A record from this system of records may be disclosed to a congressional office in response to an inquiry from the congressional office made at the request of the individual.

8. A record from this system of records may be disclosed to an official of a labor organization recognized under 5 U.S.C. ch. 71 when necessary for the labor organization to properly perform its duties as the collective bargaining representative of PBGC employees in the bargaining unit.

9. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

10. To contractors, experts, consultants, and the agents thereof, and others performing or working on a contract, service, cooperative agreement, or other assignment for PBGC when necessary to accomplish an agency function. Individuals provided information under this routine use are subject to the same Privacy Act requirements and limitations on disclosure as are applicable to PBGC employees.

11. To the National Archives and Records Administration or to the General Services Administration for records management inspections conducted under 44 U.S.C. 2904 and 2906.

12. To any source from which information is requested in the course of processing a grievance, investigation, arbitration, or other litigation, to the extent necessary to identify the individual, inform the source of the purpose(s) of the request, and identify the type of information requested.

13. To disclose information to a Federal agency, in response to its request, in connection with hiring or retaining an employee, issuing a security clearance, conducting a security or suitability investigation of an individual, or classifying jobs, to the extent that the information is relevant and necessary to the requesting agency's decision on the matter.

14. To another Federal agency or Federal entity, when information from this system of records is reasonably necessary to assist the recipient agency or entity in (1) responding to a suspected or confirmed breach or (2) preventing, minimizing, or remedying the risk of harm to individuals, the agency (including its information systems, programs, and operations), the Federal Government, or national security.

15. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained in electronic form (including computer databases or discs). Records may also be maintained on back-up tapes, or on a PBGC or a contractor-hosted network.

POLICIES AND PRACTICES FOR RETRIEVAL OF RECORDS:

Records are retrieved by any one or more of the following: name; username; organizational component; job title; work phone number; office number; supervisor; work email; skills; interests; birth date; education; peers; and employee type (Federal or contractor).

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-16, PBGC Connect Search Center (last published at 83 FR 6267 (Feb. 13, 2018)).

SYSTEM NAME AND NUMBER:

PBGC-17: Office of Inspector General Investigative File System.

SECURITY CLASSIFICATION:

Unclassified.

SYSTEM LOCATION:

Office of Inspector General, Pension Benefit Guaranty Corporation (PBGC), 445 12th Street SW, Washington, DC 20024-2101.

SYSTEM MANAGER(S):

Office of the Inspector General, PBGC, 445 12th Street SW, Washington, DC 20024-2101.

AUTHORITY FOR MAINTENANCE OF THE SYSTEM:

5 U.S.C. app. 3, sections 2 and 4.

PURPOSE(S) OF THE SYSTEM:

This system of records is maintained to supervise and conduct investigations relating to programs and operations of PBGC by the Office of the Inspector General (OIG).

CATEGORIES OF INDIVIDUALS COVERED BY THE SYSTEM:

Individuals named in investigations conducted by the OIG; complainants and subjects of complaints collected through the operation of the OIG Hotline; other individuals, including witnesses, sources, and members of the general public who are named individuals in connection with investigations conducted by OIG.

CATEGORIES OF RECORDS IN THE SYSTEM:

Information within this system relates to OIG investigations carried out under applicable statutes, regulations, policies, and procedures. The investigations may relate to criminal, civil, or administrative matters. These OIG files may contain investigative reports; transcripts; internal staff memoranda; working drafts of papers to PBGC employees; investigative plans; litigation strategies; copies of personnel, financial, contractual, and property management records maintained by PBGC; information submitted by or about pension plan sponsors or plan participants; background data including arrest records, statements of informants and witnesses, and laboratory reports of evidence analysis; information and documentation received from other government agencies; search warrants, summonses and subpoenas; and other information related to investigations. Personal data in the system may consist of names and aliases, social security numbers, telephone and cell phone numbers, physical and mailing addresses, electronic mailing addresses, dates of birth and death, fingerprints, handwriting samples, reports of confidential informants, physical identifying data, voiceprints, polygraph tests, photographs, individual personnel and payroll information, and any other personal information relevant to the subject matter of an OIG investigation.

RECORD SOURCE CATEGORIES:

Subject individuals; individual complainants; witnesses; interviews conducted during investigations; Federal, state, tribal, and local government records; individual or company records; claim and payment files; employer medical records; insurance records; court records; articles from publications; financial data; bank information; telephone data; service providers; other law enforcement organizations; grantees and sub-grantees; contractors and subcontractors; pension plan sponsors and participants; and other sources.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b) and:

1. A record from this system may be disclosed to law enforcement in the event the record is connected to a violation or potential violation of law, whether civil, criminal, or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

3. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use of the record is compatible with the purpose for which PBGC collected the information.

4. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use of the record is compatible with the purpose for which PBGC collected the information.

5. A record from this system of records may be disclosed to a congressional office in response to an inquiry from the congressional office made at the request of the individual.

6. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

7. To contractors, experts, consultants, and the agents thereof, and others performing or working on a contract, service, cooperative agreement, or other assignment for PBGC when necessary to accomplish an agency function. Individuals provided information under this routine use are subject to the same Privacy Act requirements and limitations on disclosure as are applicable to PBGC employees.

8. To the National Archives and Records Administration or to the General Services Administration for records management inspections conducted under 44 U.S.C. 2904 and 2906.

9. To any source from which information is requested in the course of processing a grievance, investigation, arbitration, or other litigation, to the extent necessary to identify the individual, inform the source of the purpose(s) of the request, and identify the type of information requested.

10. To disclose information to a Federal agency, in response to its request, in connection with hiring or retaining an employee, issuing a security clearance, conducting a security or suitability investigation of an individual, or classifying jobs, to the extent that the information is relevant and necessary to the requesting agency's decision on the matter.

11. To another federal agency or federal entity, when information from this system of records is reasonably necessary to assist the recipient agency or entity in (1) responding to a suspected or confirmed breach or (2) preventing, minimizing, or remedying the risk of harm to individuals, the agency (including its information systems, programs, and operations), the Federal Government, or national security.

12. A record relating to a person held in custody pending or during arraignment, trial, sentence, or extradition proceedings or after conviction may be disclosed to a Federal, state, local, tribal or foreign prison; probation, parole, or pardon authority; or any other agency or individual involved with the maintenance, transportation, or release of such a person.

13. A record relating to a case or matter may be disclosed to an actual or potential party or his or her attorney for the purpose of negotiation or discussion on such matters as settlement of the case or matter, plea bargaining, or informal discovery proceedings.

14. A record may be disclosed to any source, either private or governmental, when reasonably necessary to elicit information or obtain the cooperation of a witness or informant when conducting any official investigation or during a trial or hearing or when preparing for a trial or hearing.

15. A record relating to a case or matter may be disclosed to a foreign country, through the United States Department of State or directly to the representative of such country, under an international treaty, convention, or executive agreement; or to the extent necessary to assist the U.S. Department of State, law enforcement officials, and such country in apprehending or returning a fugitive to a jurisdiction that seeks that individual's return.

16. A record originating exclusively within this system of records may be disclosed to other Federal offices of inspectors general and councils comprising officials from other Federal offices of inspectors general, as required by the Inspector General Act of 1978, as amended. The purpose is to ensure that OIG investigative operations can be subject to integrity and efficiency peer reviews, and to permit other offices of inspectors general to investigate and report on allegations of misconduct by senior OIG officials as directed by a council, the President, or Congress. Records originating from any other PBGC systems of records, which may be duplicated in or incorporated into this system, also may be disclosed with all identifiable information redacted.

17. A record may be disclosed to the Department of the Treasury and the Department of Justice when the OIG seeks an ex parte court order to obtain taxpayer information from the Internal Revenue Service.

18. A record may be disclosed to any governmental, professional, or licensing authority when such record reflects on qualifications, either moral, educational or vocational, of an individual seeking to be licensed or to maintain a license.

19. A record may be disclosed to any direct or indirect recipient of Federal funds, e.g., a contractor, where such record reflects problems with the personnel working for a recipient, and disclosure of the record is made to permit a recipient to take corrective action beneficial to the Government.

20. A record may be disclosed where there is an indication of a violation or a potential violation of law, rule, regulation, or order whether civil, criminal, administrative or regulatory in nature, to the appropriate agency, whether Federal, state, tribal or local, or to a securities self-regulatory organization, charged with enforcing or implementing the statute, or rule, regulation, or order.

21. A record may be disclosed to Federal, state, tribal or local authorities in order to obtain information or records relevant to an Office of Inspector General investigation or inquiry.

22. A record may be disclosed to a bar association, state accountancy board, or other Federal, state, tribal, local, or foreign licensing or oversight authority; or professional association or self-regulatory authority to the extent that it performs similar functions (including the Public Company Accounting Oversight Board) for investigations or possible disciplinary action.

23. A record may be disclosed to inform complainants, victims, and witnesses of the results of an investigation or inquiry.

24. A record may be disclosed to the Department of Justice for the purpose of obtaining advice on investigatory matters or to refer information for the purpose of prosecution.

25. A record may be disclosed to contractors, interns and experts who have been engaged to assist in an OIG investigation or in the performance of a service related to this system of records and require access to these records for the purpose of assisting the OIG in the efficient administration of its duties. All recipients of these records will be required to comply with the requirements of the Privacy Act of 1974, as amended.

26. A record may be disclosed to the public when the matter under investigation has become public knowledge, or when the Inspector General determines that such disclosure is necessary to preserve confidence in the integrity of the OIG investigative process, to demonstrate the accountability of PBGC employees, or other individuals covered by this system, or when there exists a legitimate public interest, unless the Inspector General has determined that disclosure of specific information would constitute an unwarranted invasion of personal privacy.

27. A record to compare such records in other Federal agencies' systems of records or to non-Federal records.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records may be retrieved by any one or more of the following: name; social security number; subject category; or assigned case number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. See General Record Schedule 4.2 Inspector General Item: 080. Records existing on paper are destroyed beyond recognition.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

This system is exempt from the notification and record access requirements. However, consideration will be given to requests made in compliance with 29 CFR 4902.3 and 4902.4.

CONTESTING RECORD PROCEDURES:

This system is exempt from amendment requirements. However, consideration will be given to requests made in compliance with 29 CFR 4902.3 and 4902.5.

NOTIFICATION PROCEDURES:

This system is exempt from the notification requirements. However, consideration will be given to inquiries made in compliance with 29 CFR 4902.3.

EXEMPTIONS PROMULGATED FOR THE SYSTEM:

Pursuant to 5 U.S.C. 552a(j) and (k), PBGC has established regulations at 29 CFR 4902.11 that exempt records in this system depending on their purpose.

HISTORY:

PBGC-17, Inspector General Investigative File System (last published at 89 FR 3436 (Jan. 18, 2024)).

SYSTEM NAME AND NUMBER:

PBGC-19: Office of Negotiations and Restructuring/Office of General Counsel Case Management System.

SECURITY CLASSIFICATION:

Unclassified

SYSTEM LOCATION:

Pension Benefit Guaranty Corporation (PBGC), 445 12th Street SW, Washington, DC 20024-2101 (Records may be kept at an additional location as backup for continuity of operations.)

SYSTEM MANAGER(S):

Office of the General Counsel (OGC), PBGC, 445 12th Street SW, Washington, DC 20024-2101.

Office of Negotiations and Restructuring (ONR), PBGC, 445 12th Street SW, Washington, DC 20024-2101.

AUTHORITY FOR MAINTENANCE OF THE SYSTEM:

29 U.S.C. 1055, 1056(d)(3), 1302, 1303, 1310, 1321, 1322a, 1341, 1342, 1343, 1350; 1431, and 1432; 5 U.S.C. app. 105; 5 U.S.C. 301, 552(a), 552a(d), 7101; 42 U.S.C. 2000e, et seq.; 44 U.S.C. 3101.

PURPOSE(S) OF THE SYSTEM:

The purpose of this system of records is to catalog, litigate, review or otherwise resolve any case or matter handled by the ONR or the OGC.

CATEGORIES OF INDIVIDUALS COVERED BY THE SYSTEM:

Individuals who are participants, beneficiaries, and alternate payees in pension plans covered by the Employee Retirement Income Security Act of 1974 (ERISA), 29 U.S.C. 1301, et seq.; pension plan sponsors, administrators, control group members and third parties, who are responsible for, manage, or have control over ERISA pension plans; other individuals who are identified in connection with investigations conducted pursuant to 29 U.S.C. 1303 or litigation conducted with regard to ERISA pension plans; individuals (including PBGC employees) who are parties or witnesses in civil litigation or administrative proceedings involving or concerning PBGC or its officers or employees; individuals who are the subject of a breach of personally identifiable information; individuals who are potential contractors or contractors with PBGC or are otherwise personally associated with a contract or procurement matter; individuals who receive legal advice from OGC; and other individuals (including current, former, and potential PBGC employees, contract employees, interns, and externs) who are the subject of or are otherwise connected to an inquiry, investigation, other matter handled by the OGC.

CATEGORIES OF RECORDS IN THE SYSTEM:

Draft and final versions of notes, reports, memoranda; settlements; legal opinions; agreements; correspondence; contracts; contract proposals and other procurement documents; plan documents; participant, alternate payee, and beneficiary files; initial and final PBGC determinations of ERISA matters; Freedom of Information Act (FOIA) and the Privacy Act of 1974 disclosures, determinations, appeals and decisions of those appeals; records and information obtained from other Federal, state, tribal, and local agencies and departments, including, but not limited to: Office of Personnel Management, Social Security Administration, Department of Treasury and Department of Justice; drafts and legal reviews of proposed personnel actions; ethics inquiries; personnel records; financial records; individual tax returns; litigation files; labor relations files; information provided by labor unions or other organizations; witness statements; summonses, subpoenas, discovery requests and responses; breach reports and supporting documentation; and universally unique identifier (UUID), name, and email address from Login.gov for account creation and authentication.

RECORD SOURCE CATEGORIES:

Subject individuals; pension plan participants, sponsors, administrators and third parties; Federal government records; current and former employees, contractors, interns, and externs; PBGC debt and disbursement records; insurers; the Social Security Administration; the General Services Administration; labor organizations; court records; articles from publications; and other individuals, organizations, and corporate entities with relevant knowledge/information.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system of records may be disclosed, in furtherance of proceedings under Title IV of ERISA, to a contributing sponsor (or other employer who maintained the plan), including any predecessor or successor, and any member of the same control group.

2. Names, addresses, and telephone numbers of employees, former employees, participants, and beneficiaries and information pertaining to debts to PBGC may be disclosed to the Department of Treasury, the Department of Justice, a credit agency, and a debt collection to collect the debt. Disclosure to a debt collection may be made only under a contract that binds any such contractor or employee of such contractor to criminal penalties of the Privacy Act.

3. Information may be disclosed to a court, magistrate, or administrative tribunal in the course of presenting evidence, including disclosures to opposing counsel or witnesses in the course of civil discovery, litigation, or settlement negotiations in response to a court order or in connection with criminal law proceedings.

4. Information may be provided to a congressional office in response to an inquiry made at the request of the individual to whom the record pertains.

5. Information may be provided to third parties during the course of an investigation to the extent necessary to obtain information pertinent to the investigation.

6. Relevant and necessary information may be disclosed to a former employee of PBGC for the purposes of: (1) responding to an official inquiry by Federal, state, tribal or local government entity or professional licensing authority; or (2) facilitating communications with a former employee that may be necessary for personnel-related or other official purposes where PBGC requires information and/or consultation assistance from the former employee regarding a matter within that person's former area of responsibility.

7. A record relating to a case or matter may be disseminated to a foreign country pursuant to an international treaty or convention entered into and ratified by the United States or to an executive agreement.

8. A record may be disseminated to a foreign country, through the United States Department of State or directly to the representative of such country, to the extent necessary to assist such country in civil or criminal proceedings in which the United States or one of its officers or agencies has an interest.

9. A record from this system of records may be disclosed to the National Archives and Records Administration (NARA), Office of Government Information Services (OGIS), to the extent necessary to fulfill its responsibilities in 5 U.S.C. 552(h), to review administrative agency policies, procedures and compliance with the FOIA, and to facilitate use of OGIS' mediation services.

10. A record from this system may be disclosed to a consumer reporting agency in accordance with 31 U.S.C. 3711(e).

11. A record from this system of records may be disclosed under a Memorandum of Understanding or an Interagency Agreement to: (1) the Department of Treasury (USDT) or (2) the Department of Labor's Employee Benefits Security Administration (EBSA) to facilitate an investigation or inquiry relating to a multiemployer plan's compliance with applicable provisions under ERISA or the Internal Revenue Code, including the special financial assistance program created by the American Rescue Plan (ARP) Act of 2021 (P.L. 117-2).

12. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

13. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

14. With the approval of the Director, Human Resources Department (or his or her designee), the fact that this system of records includes information relevant to a Federal agency's decision in connection with the hiring or retention of an employee, the retention of a security clearance, the letting of a contract, or the issuance of a license, grant, or other benefit may be disclosed to that Federal agency.

15. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

16. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

17. A record from this system of records may be disclosed to OMB in connection with the review of private relief legislation as set forth in OMB Circular No. A-19 at any stage of the legislative coordination and clearance process as set forth in that Circular.

18. A record from this system of records may be disclosed to a congressional office in response to an inquiry from the congressional office made at the request of the individual.

19. A record from this system of records may be disclosed to an official of a labor organization recognized under 5 U.S.C. ch. 71 when necessary for the labor organization to properly perform its duties as the collective bargaining representative of PBGC employees in the bargaining unit.

20. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

21. To contractors, experts, consultants, and the agents thereof, and others performing or working on a contract, service, cooperative agreement, or other assignment for PBGC when necessary to accomplish an agency function. Individuals provided information under this routine use are subject to the same Privacy Act requirements and limitations on disclosure as are applicable to PBGC employees.

22. To the National Archives and Records Administration or to the General Services Administration for records management inspections conducted under 44 U.S.C. 2904 and 2906.

23. To any source from which information is requested in the course of processing a grievance, investigation, arbitration, or other litigation, to the extent necessary to identify the individual, inform the source of the purpose(s) of the request, and identify the type of information requested.

24. To disclose information to a Federal agency, in response to its request, in connection with hiring or retaining an employee, issuing a security clearance, conducting a security or suitability investigation of an individual, or classifying jobs, to the extent that the information is relevant and necessary to the requesting agency's decision on the matter.

25. To another Federal agency or Federal entity, when information from this system of records is reasonably necessary to assist the recipient agency or entity in (1) responding to a suspected or confirmed breach or (2) preventing, minimizing, or remedying the risk of harm to individuals, the agency (including its information systems, programs, and operations), the Federal Government, or national security.

26. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are indexed by assigned case number and sequential record identifier. Records are full-text indexed and information from this system may be retrieved using any free-form key, which may include names, social security number, address, representative or any other personal identifiers. For certain systems, only individuals assigned to the particular matter may retrieve associated records.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.8: Legal Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals. Paper records are kept in file folders in areas of restricted access that are locked after office hours.

Electronic records are stored on computer networks, which may include cloud-based systems, and protected by controlled access with Personal Identity Verification (PIV) cards, assigning user accounts to individuals needing access to the records and by passwords set by authorized users that must be changed periodically. Further, for certain systems covered by this notice, heightened security access is required. Such access is granted by the specific permissions group assigned to monitor that particular system and only authorized employees of the agency may retrieve, review or modify those records.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

Pursuant to 5 U.S.C. 552a(k)(2), records in this system are exempt from the requirements of subsections (c)(3), (d), (e)(1), (e)(4) (G), (H), (I), and (f) of 5 U.S.C. 552a, provided, however, that if any individual is denied any right, privilege, or benefit that he or she would otherwise be entitled to by Federal law, or for which he or she would otherwise be eligible, as a result of the maintenance of these records, such material will be provided to the individual, except to the extent that the disclosure of the material would reveal the identity of a source who furnished information to the Government with an express promise that the identity of the source would be held in confidence.

HISTORY:

PBGC-19, Office of General Counsel Case Management System (last published at 86 FR 49061 (Sep. 01, 2021)).

SYSTEM NAME AND NUMBER:

PBGC-21: Reasonable Accommodation Records.

SECURITY CLASSIFICATION:

Unclassified.

SYSTEM LOCATION:

Pension Benefit Guaranty Corporation, 445 12th Street SW, Washington, DC 20024-2101. (Records may be kept at an additional location as backup for continuity of operations.)

SYSTEM MANAGER(S):

Reasonable Accommodations Coordinator, Human Resources Department, PBGC, 445 12th Street SW, Washington, DC 20024-2101.

AUTHORITY FOR MAINTENANCE OF THE SYSTEM:

29 U.S.C. 1302; 44 U.S.C. 3101; 5 U.S.C. 301; 29 U.S.C. 701 et seq.; 29 U.S.C. 791; 42 U.S.C. 12101 et seq.; 42 U.S.C. 2000e et seq.; 42 U.S.C. 2000bb; 42 U.S.C. Ch. 21, 126; 29 CFR parts 1605, 1614, 1630; Executive Order 13164 (July 26, 2000); and Executive Order 13548 (July 26, 2010).

PURPOSE(S) OF THE SYSTEM:

The purposes of this system are: (1) to allow PBGC to collect and maintain records on prospective, current, and former employees with disabilities or sincerely held religious beliefs, practices, or observances who requested or received reasonable accommodation by PBGC; (2) to track and report the processing of requests for reasonable accommodation PBGC-wide to comply with applicable law and regulations; and (3) to maintain the confidentiality of medical or religious information submitted by or on behalf of applicants or employees requesting reasonable accommodation.

CATEGORIES OF INDIVIDUALS COVERED BY THE SYSTEM:

Prospective, current, and former employees of PBGC who request and/or receive a reasonable accommodation for a disability or religious belief, practice, or observance authorized individuals or representatives (e.g., family members, union representatives, or attorneys) who submit a request for a reasonable accommodation on behalf of a prospective, current, or former employee.

CATEGORIES OF RECORDS IN THE SYSTEM:

Name and employment information of current or prospective employee needing an accommodation; requester's name and contact information (if different than the employee who needs an accommodation); date request was initiated; information concerning the nature of the disability or religious belief, practice, or observance and the need for accommodation, including appropriate medical or other documentation; occupational series; pay grade; essential duties of the position; details of the accommodation request, such as: type of accommodation requested, how the requested accommodation would assist in job or allow job performance while accommodating the disability or religious belief, practice, or observance, the sources of technical assistance consulted in trying to identify alternative reasonable accommodation, any additional information provided by the requester relating to the processing of the request, whether the request was approved or denied, whether the accommodation was approved for a trial period; and, documentation between the employee and his/her supervisor(s) regarding the accommodation.

RECORD SOURCE CATEGORIES:

Subject individuals; individual making the request (if different than the subject individuals); medical and equal employment opportunity professionals; and the subject individuals' supervisor(s).

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to physicians or other medical professionals to provide them with or obtain from them the necessary medical documentation and/or certification for reasonable accommodation.

2. A record from this system may be disclosed to another federal agency or commission with responsibility for labor or employment relations or other issues, including equal employment opportunity and reasonable accommodation issues, when that agency or commission has jurisdiction over reasonable accommodation issues.

3. A record from this system may be disclosed to the Office of Management and Budget (OMB), Department of Labor (DOL), Office of Personnel Management (OPM), Equal Employment Opportunity Commission (EEOC), or Office of Special Counsel (OSC) to obtain advice regarding statutory, regulatory, policy, and other requirements related to reasonable accommodation.

4. A record from this system may be disclosed to appropriate third-parties contracted by the Agency to facilitate mediation or other dispute resolution procedures or programs.

5. A record from this system may be disclosed to the Department of Defense (DOD) for purposes of procuring assistive technologies and services through the Computer/Electronic Accommodation Program in response to a request for reasonable accommodation.

6. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

7. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

8. With the approval of the Director, Human Resources Department (or his or her designee), the fact that this system of records includes information relevant to a Federal agency's decision in connection with the hiring or retention of an employee, the retention of a security clearance, the letting of a contract, or the issuance of a license, grant, or other benefit may be disclosed to that Federal agency.

9. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

10. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

11. A record from this system of records may be disclosed to OMB in connection with the review of private relief legislation as set forth in OMB Circular No. A-19 at any stage of the legislative coordination and clearance process as set forth in that Circular.

12. A record from this system of records may be disclosed to a congressional office in response to an inquiry from the congressional office made at the request of the individual.

13. A record from this system of records may be disclosed to an official of a labor organization recognized under 5 U.S.C. ch. 71 when necessary for the labor organization to properly perform its duties as the collective bargaining representative of PBGC employees in the bargaining unit.

14. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

15. To contractors, experts, consultants, and the agents thereof, and others performing or working on a contract, service, cooperative agreement, or other assignment for PBGC when necessary to accomplish an agency function. Individuals provided information under this routine use are subject to the same Privacy Act requirements and limitations on disclosure as are applicable to PBGC employees.

16. To the National Archives and Records Administration or to the General Services Administration for records management inspections conducted under 44 U.S.C. 2904 and 2906.

17. To any source from which information is requested in the course of processing a grievance, investigation, arbitration, or other litigation, to the extent necessary to identify the individual, inform the source of the purpose(s) of the request, and identify the type of information requested.

18. To disclose information to a Federal agency, in response to its request, in connection with hiring or retaining an employee, issuing a security clearance, conducting a security or suitability investigation of an individual, or classifying jobs, to the extent that the information is relevant and necessary to the requesting agency's decision on the matter.

19. To another Federal agency or Federal entity, when information from this system of records is reasonably necessary to assist the recipient agency or entity in (1) responding to a suspected or confirmed breach or (2) preventing, minimizing, or remedying the risk of harm to individuals, the agency (including its information systems, programs, and operations), the Federal Government, or national security.

20. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor- hosted network.

POLICIES AND PRACTICES FOR RETRIEVAL OF RECORDS:

Records are retrieved by any one or more of the following: employee name or assigned case number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4 or to amend records pertaining to themselves in accordance with 29 CFR 4902.5, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend, in accordance with 29 CFR 4902.5, their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-21, Reasonable Accommodation Records (last published at 86 FR 63426 (Nov. 16, 2021)).

SYSTEM NAME AND NUMBER:

PBGC-22: Remote Work, Telework, and Alternative Worksite Records.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Remote Work and Telework Managing Officers, Human Resources Department, PBGC, 445 12th Street SW, Washington, DC 20024-2101.

AUTHORITY FOR MAINTENANCE OF THE SYSTEM:

29 U.S.C. 1302; 44 U.S.C. 3101; 5 U.S.C. 301; 5 U.S.C. 6120.

PURPOSE(S) OF THE SYSTEM:

The purpose of this system of records is to collect and maintain records on current and former employees who have participated in, presently participate in, or have sought to participate in PBGC's Remote Work or Telework Programs.

CATEGORIES OF INDIVIDUALS COVERED BY THE SYSTEM:

Current and former employees of PBGC who have requested to participate in PBGC's Remote Work or Telework Programs in order to work at an alternative worksite other than their official PBGC duty station and physicians who certify eligibility for medical telework.

CATEGORIES OF RECORDS IN THE SYSTEM:

Name, position title, grade, series, and department name; official PBGC duty station address and telephone number; alternative worksite address and telephone number(s); date telework agreement received and approved/denied; telework agreement, self-certification home safety checklist, and supervisor-employee checklist; type of telework requested (e.g., medical, episodic, or regular); regular work schedule; remote work or telework schedule; approvals/disapprovals; mass transit benefits received through PBGC's mass transit subsidy program; physician certification for medical telework; and any other miscellaneous documents supporting telework.

RECORD SOURCE CATEGORIES:

Subject individuals; subject individuals' supervisors; and physicians.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to Federal, state, tribal or local governments during actual emergencies, exercises, or continuity of operations tests for the purposes of emergency preparedness and responding to emergency situations.

2. A record from this system may be disclosed to the Department of Labor when an employee is injured when working at home while in the performance of normal duties.

3. A record from this system may be disclosed to the Office of Personnel Management (OPM) for use in its Telework Survey to provide consolidated data on participation in PBGC's Telework Program.

4. A record from this system of records may be disclosed to appropriate third parties contracted by the agency to facilitate mediation or other dispute resolution procedures or programs.

5. A record from this system may be disclosed to the PBGC Information Technology Infrastructure Operations Department (ITIOD) when necessary for the shipping of Government-owned IT equipment to an employee's approved alternative work location.

6. A record from this system may be disclosed to the PBGC Workplace Solutions Department (WSD) when necessary to account for office furniture loaned to an employee for use at their approved alternate work location.

7. A record from this system may be disclosed to law enforcement in the event the record is connected to a violation or potential violation of law, whether civil, criminal or regulatory in nature, and whether arising by general statute, regulation, rule, or order issued pursuant thereto. Such disclosure may be made to the appropriate agency, whether federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

8. A record from this system of records may be disclosed to a federal, state, tribal or local agency or to another public or private source maintaining civil, criminal, or other relevant enforcement information or other pertinent information if, and to the extent necessary, to obtain information relevant to a PBGC decision concerning the hiring or retention of an employee, the retention of a security clearance, or the letting of a contract.

9. With the approval of the Director, Human Resources Department (or his or her designee), the fact that this system of records includes information relevant to a federal agency's decision in connection with the hiring or retention of an employee, the retention of a security clearance, the letting of a contract, or the issuance of a license, grant, or other benefit may be disclosed to that federal agency.

10. A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant and necessary to the proceeding and that the use is compatible with the purpose for which PBGC collected the information.

11. When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant and necessary to the proceeding and that the use is compatible with the purpose for which PBGC collected the information.

12. A record from this system of records may be disclosed to OMB in connection with the review of private relief legislation as set forth in OMB Circular No. A-19 at any stage of the legislative coordination and clearance process as set forth in that Circular.

13. A record from this system of records may be disclosed to a congressional office in response to an inquiry from the congressional office made at the request of the individual.

14. A record from this system of records may be disclosed to an official of a labor organization recognized under 5 U.S.C. ch. 71 when necessary for the labor organization to properly perform its duties as the collective bargaining representative of PBGC employees in the bargaining unit.

15. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

16. To contractors, experts, consultants, and the agents thereof, and others performing or working on a contract, service, cooperative agreement, or other assignment for PBGC when necessary to accomplish an agency function. Individuals provided information under this routine use are subject to the same Privacy Act requirements and limitations on disclosure as are applicable to PBGC employees.

17. To the National Archives and Records Administration or to the General Services Administration for records management inspections conducted under 44 U.S.C. 2904 and 2906.

18. To any source from which information is requested in the course of processing a grievance, investigation, arbitration, or other litigation, to the extent necessary to identify the individual, inform the source of the purpose(s) of the request, and identify the type of information requested.

19. To disclose information to a federal agency, in response to its request, in connection with hiring or retaining an employee, issuing a security clearance, conducting a security or suitability investigation of an individual, or classifying jobs, to the extent that the information is relevant and necessary to the requesting agency's decision on the matter.

20. To another federal agency or federal entity, when information from this system of records is reasonably necessary to assist the recipient agency or entity in (1) responding to a suspected or confirmed breach or (2) preventing, minimizing, or remedying the risk of harm to individuals, the agency (including its information systems, programs, and operations), the Federal Government, or national security.

21. To Another Agency or Non-Federal Entity in Connection with an OIG Audit, Investigation, or Inspection: To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases). Records may also be maintained on back-up tapes, or on a PBGC or a contractor-hosted network. Also, each of PBGC's departments has a Remote Work or Telework Liaison who may maintain copies of the records pertaining to employees working in his or her department.

POLICIES AND PRACTICES FOR RETRIEVAL OF RECORDS:

Records may be retrieved by any one or more of the following: employee name, and the department in which the employee works, will work, or previously worked.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-22, Telework and Alternative Worksite Records (last published at 83 FR 6272 (Feb. 13, 2018)).

SYSTEM NAME AND NUMBER:

PBGC-23: Internal Inquiries of Allegations of Harassing Conduct.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Director, Human Resources Department, PBGC, 445 12th Street SW, Washington, DC 20024-2101.

Director, Office of General Counsel's General Law and Operations Department, 445 12th Street SW, Washington, DC 20024-2101.

AUTHORITY FOR MAINTENANCE OF THE SYSTEM:

29 U.S.C. 1302; 44 U.S.C. 3101; 5 U.S.C. 301; 42 U.S.C. 2000e, et seq.

PURPOSE(S) OF THE SYSTEM:

This system of records is maintained for the purpose of upholding PBGC's policy to prevent and eradicate harassing conduct in the workplace, including conducting and resolving internal inquiries of allegations of harassing conduct brought by or against PBGC employees, contractors, or interns.

CATEGORIES OF INDIVIDUALS COVERED BY THE SYSTEM:

Current or former PBGC employees, contractors, and interns who have made a report of harassment, or have been accused of harassing conduct.

CATEGORIES OF RECORDS IN THE SYSTEM:

The system contains all documents related to a report of harassment, which may include the name, position, grade, and supervisor(s) of the complainant and the accused; the Harassment Inquiry Committee intake form; statements of witnesses; reports of interviews; medical records; final decisions and corrective actions taken; and related correspondence and exhibits.

RECORD SOURCE CATEGORIES:

PBGC employees, contractors, and others with knowledge; outside counsel; and medical professionals.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. Disclosure of information from this system of records regarding the status of any inquiry that may have been conducted may be made to the complaining party and to the individual against whom the complaint was made when the purpose of the disclosure is both relevant and necessary and is compatible with the purpose for which the information was collected.

2. Disclosure of information from this system of records may be made to the PBGC Office of Equal Employment Opportunity or the PBGC Office of the Inspector General when related to investigations under their jurisdiction.

3. A record from this system may be disclosed to law enforcement in the event the record is connected to a violation or potential violation of law, whether civil, criminal or regulatory in nature, and whether arising by general statute, regulation, rule, or order issued pursuant thereto. Such disclosure may be made to the appropriate agency, whether federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

4. A record from this system of records may be disclosed to a federal, state, tribal or local agency or to another public or private source maintaining civil, criminal, or other relevant enforcement information or other pertinent information if, and to the extent necessary, to obtain information relevant to a PBGC decision concerning the hiring or retention of an employee, the retention of a security clearance, or the letting of a contract.

5. With the approval of the Director, Human Resources Department (or his or her designee), the fact that this system of records includes information relevant to a federal agency's decision in connection with the hiring or retention of an employee, the retention of a security clearance, the letting of a contract, or the issuance of a license, grant, or other benefit may be disclosed to that federal agency.

6. A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant and necessary to the proceeding and that the use is compatible with the purpose for which PBGC collected the information.

7. When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant and necessary to the proceeding and that the use is compatible with the purpose for which PBGC collected the information.

8. A record from this system of records may be disclosed to OMB in connection with the review of private relief legislation as set forth in OMB Circular No. A-19 at any stage of the legislative coordination and clearance process as set forth in that Circular.

9. A record from this system of records may be disclosed to a congressional office in response to an inquiry from the congressional office made at the request of the individual.

10. A record from this system of records may be disclosed to an official of a labor organization recognized under 5 U.S.C. ch. 71 when necessary for the labor organization to properly perform its duties as the collective bargaining representative of PBGC employees in the bargaining unit.

11. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

12. To contractors, experts, consultants, and the agents thereof, and others performing or working on a contract, service, cooperative agreement, or other assignment for PBGC when necessary to accomplish an agency function. Individuals provided information under this routine use are subject to the same Privacy Act requirements and limitations on disclosure as are applicable to PBGC employees.

13. To the National Archives and Records Administration or to the General Services Administration for records management inspections conducted under 44 U.S.C. 2904 and 2906.

14. To any source from which information is requested in the course of processing a grievance, investigation, arbitration, or other litigation, to the extent necessary to identify the individual, inform the source of the purpose(s) of the request, and identify the type of information requested.

15. To disclose information to a federal agency, in response to its request, in connection with hiring or retaining an employee, issuing a security clearance, conducting a security or suitability investigation of an individual, or classifying jobs, to the extent that the information is relevant and necessary to the requesting agency's decision on the matter.

16. To another federal agency or federal entity, when information from this system of records is reasonably necessary to assist the recipient agency or entity in (1) responding to a suspected or confirmed breach or (2) preventing, minimizing, or remedying the risk of harm to individuals, the agency (including its information systems, programs, and operations), the Federal Government, or national security.

17. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name; department; or unique identifier assigned to each incident reported.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Paper records are kept in cabinets in areas of restricted access that are locked after office hours. Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-23, Internal Investigations of Allegations of Harassing Conduct (last published at 83 FR 6273 (Feb. 13, 2018)).

SYSTEM NAME AND NUMBER:

PBGC-25: Comment Management System.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Director, Office of General Counsel's Program Law and Policy Department, PBGC, 445 12th Street SW, Washington, DC 20024-2101.

AUTHORITY FOR MAINTENANCE OF THE SYSTEM:

29 U.S.C. 1302; 44 U.S.C. 3101; 44 U.S.C. Ch 36; 5 U.S.C. 301.

PURPOSE(S) OF THE SYSTEM:

The information in this system is maintained to: provide a central location to search, view, download and comment on Federal rulemaking documents; respond to the public's comments; track regulatory feedback; and retain commenter information in order to respond to the public.

CATEGORIES OF INDIVIDUALS COVERED BY THE SYSTEM:

Any individual commenting on PBGC's rulemaking activities or submitting supporting materials; any individual initiating contact with PBGC through use of the agency website.

CATEGORIES OF RECORDS IN THE SYSTEM:

Comments and supporting documentation from the public; agency rulemaking materials; Federal Register publications; scientific and financial studies; cookies (session and persistent); and internet protocol (IP) addresses.

RECORD SOURCE CATEGORIES:

Individuals commenting on agency rulemaking; individuals contacting PBGC via the agency website.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. Information, including personally identifiable information (PII), contained in comments about agency rulemaking, whether submitted through pbgc.gov or regulations.gov, may be published to the PBGC website.

2. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

3. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

4. With the approval of the Director, Human Resources Department (or his or her designee), the fact that this system of records includes information relevant to a Federal agency's decision in connection with the hiring or retention of an employee, the retention of a security clearance, the letting of a contract, or the issuance of a license, grant, or other benefit may be disclosed to that Federal agency.

5. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

6. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

7. A record from this system of records may be disclosed to OMB in connection with the review of private relief legislation as set forth in OMB Circular No. A-19 at any stage of the legislative coordination and clearance process as set forth in that Circular.

8. A record from this system of records may be disclosed to a congressional office in response to an inquiry from the congressional office made at the request of the individual.

9. A record from this system of records may be disclosed to an official of a labor organization recognized under 5 U.S.C. ch. 71 when necessary for the labor organization to properly perform its duties as the collective bargaining representative of PBGC employees in the bargaining unit.

10. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm

11. To contractors, experts, consultants, and the agents thereof, and others performing or working on a contract, service, cooperative agreement, or other assignment for PBGC when necessary to accomplish an agency function. Individuals provided information under this routine use are subject to the same Privacy Act requirements and limitations on disclosure as are applicable to PBGC employees.

12. To the National Archives and Records Administration or to the General Services Administration for records management inspections conducted under 44 U.S.C. 2904 and 2906.

13. To any source from which information is requested in the course of processing a grievance, investigation, arbitration, or other litigation, to the extent necessary to identify the individual, inform the source of the purpose(s) of the request, and identify the type of information requested.

14. To disclose information to a Federal agency, in response to its request, in connection with hiring or retaining an employee, issuing a security clearance, conducting a security or suitability investigation of an individual, or classifying jobs, to the extent that the information is relevant and necessary to the requesting agency's decision on the matter.

15. To another Federal agency or Federal entity, when information from this system of records is reasonably necessary to assist the recipient agency or entity in (1) responding to a suspected or confirmed breach or (2) preventing, minimizing, or remedying the risk of harm to individuals, the agency (including its information systems, programs, and operations), the Federal Government, or national security.

16. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained in electronic form (including computer databases or discs). Records may also be maintained on back-up tapes, or on a PBGC or a contractor-hosted network.

POLICIES AND PRACTICES FOR RETRIEVAL OF RECORDS:

Information from this system may be retrieved by numerous data elements and key word searches, including, but not limited to name, dates, subject, and other information retrievable with full-text searching capability.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule Item 1.2: Administrative Records.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-25, PBGC.GOV Comment Management System (last published at 83 FR 6274 (Feb. 13, 2018)).

SYSTEM NAME AND NUMBER:

PBGC-26: PBGC Insider Threat and Data Loss Prevention.

SECURITY CLASSIFICATION:

Unclassified.

SYSTEM LOCATION:

Pension Benefit Guaranty Corporation (PBGC), 445 12th Street SW, Washington, DC 20024-2101. (Records may be kept at an additional location as backup for continuity of operations.)

SYSTEM MANAGER(S):

Chief Information Officer, Office of Information Technology, PBGC, 445 12th Street SW, Washington, DC 20024-2101.

AUTHORITY FOR MAINTENANCE OF THE SYSTEM:

29 U.S.C. 1302(b)(3); 5 U.S.C. 301; 44 U.S.C. 3101; 44 U.S.C. 3554; Executive Order 13587, Structural Reforms To Improve the Security of Classified Networks and the Responsible Sharing and Safeguarding of Classified Information (Oct. 7, 2011); Presidential Memorandum—National Insider Threat Policy and Minimum Standards for Executive Branch Insider Threat Programs (Nov. 21, 2012); Executive Orders 13488 and 13467, as amended by 13764, To Modernize the Executive Branch-Wide Governance Structure and Processes for Security Clearances, Suitability and Fitness for Employment, and Credentialing, and Related Matters; Executive Order 3356, Controlled Unclassified Information (Nov. 4, 2010); 5 CFR 731; 5 CFR 302; OMB Circular A-130 (July 28, 2016); National Institute of Standards and Technology Special Publication 800-53.

PURPOSE(S) OF THE SYSTEM:

The purpose of the system is to detect anomalous behavior by PBGC insiders and, as warranted, gather information from sources or existing PBGC systems of records to support an investigation of the incident.

CATEGORIES OF INDIVIDUALS COVERED BY THE SYSTEM:

The categories of individuals covered by this system are PBGC insiders, defined as any person with authorized access to any PBGC resource including facilities, information, equipment, networks, or systems.

CATEGORIES OF RECORDS IN THE SYSTEM:

A. The system will contain these categories of records:

Information collected through user activity monitoring, including keystrokes, screen captures, and content transmitted via email, chat, or data import or export.

Reports of investigation regarding security violations and privacy breaches, including incident reports; usernames and aliases, levels of network access, audit data, information regarding misuse of PBGC devices, information regarding unauthorized use of removable media, and logs of printer, copier, and facsimile machine use.

Records relating to the management and operation of PBGC personnel and physical security, including information relating to continued eligibility for access to PBGC facilities, information, and information systems.

Information identifying threats to PBGC personnel, property, facilities, and information; information obtained from the Department of Justice, the Federal Bureau of Investigation, or from other agencies or organizations about individuals known or suspected of being engaged in conduct constituting, preparing for, aiding, or relating to an insider threat, including, including but not limited to, espionage or unauthorized disclosure of personally identifiable information (PII).

B. The system may include these categories of records:

Publicly available information, such as information regarding: Arrests and detentions; real property; bankruptcy; liens or holds on property; vehicles; licensure (including professional and pilot's licenses, firearms and explosive permits); business licenses and filings; and from social media.

Reports furnished to PBGC, or collected by PBGC, in connection with personnel security investigations and Insider Threat Detection Program operated by PBGC pursuant to Federal laws and Executive Orders, rules, regulations, guidance, and PBGC policies.

Documentation pertaining to investigative or analytical efforts by PBGC Insider Threat Program Personnel to identify threats to PBGC personnel, property, facilities, and information.

Intelligence reports and database query results relating to individuals covered by this system.

RECORD SOURCE CATEGORIES:

To monitor for, identify, and respond to potential insider threats, information in the system will be received on an as-needed basis from PBGC employees, contractors, vendors, interns, and detailees; officials from other foreign, Federal, tribal, state, and local government agencies and organizations; non-government, commercial, public, and private agencies and organizations; complainants, informants, suspects, and witnesses; and from relevant records, including counterintelligence and security databases and files; personnel security databases and files; PBGC human resources databases and files; PBGC contractor files; PBGC's Office of Information Technology; information collected through user activity monitoring; PBGC telephone usage records; Federal, state, tribal, territorial, and local law enforcement and investigatory records; Inspector General records; available U.S. Government intelligence and counterintelligence reporting information and analytic products pertaining to adversarial threats; other Federal agencies; and publicly available information.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. Records may be disclosed to any person, organization, or governmental entity in order to notify them of a serious threat for the purpose of guarding against or responding to the threat.

2. Records may be disclosed to a Federal, state, or local agency, or other appropriate entities or individuals, or through established liaison channels to selected foreign governments, in order to enable the intelligence agency with the relevant authority and responsibility for the matter to carry out its responsibilities under the National Security Act of 1947 as amended, the CIA act of 1949 as emended, Executive Order 12333 or any successor order, applicable national security directives, or classified implementing procedures approved by the Attorney General and promulgated pursuant to such statutes, orders or directives.

3. Records may be disclosed to the U.S. Department of Homeland Security (DHS) if captured in an intrusion detection system used by PBGC and DHS pursuant to a DHS cybersecurity program that monitors internet traffic to and from Federal government computer networks to prevent a variety of types of cybersecurity incidents.

4. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

5. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

6. With the approval of the Director, Human Resources Department (or his or her designee), the fact that this system of records includes information relevant to a Federal agency's decision in connection with the hiring or retention of an employee, the retention of a security clearance, the letting of a contract, or the issuance of a license, grant, or other benefit may be disclosed to that Federal agency.

7. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

8. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

9. A record from this system of records may be disclosed to OMB in connection with the review of private relief legislation as set forth in OMB Circular No. A-19 at any stage of the legislative coordination and clearance process as set forth in that Circular.

10. A record from this system of records may be disclosed to a congressional office in response to an inquiry from the congressional office made at the request of the individual.

11. A record from this system of records may be disclosed to an official of a labor organization recognized under 5 U.S.C. ch. 71 when necessary for the labor organization to properly perform its duties as the collective bargaining representative of PBGC employees in the bargaining unit.

12. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

13. To contractors, experts, consultants, and the agents thereof, and others performing or working on a contract, service, cooperative agreement, or other assignment for PBGC when necessary to accomplish an agency function. Individuals provided information under this routine use are subject to the same Privacy Act requirements and limitations on disclosure as are applicable to PBGC employees.

14. To the National Archives and Records Administration or to the General Services Administration for records management inspections conducted under 44 U.S.C. 2904 and 2906.

15. To any source from which information is requested in the course of processing a grievance, investigation, arbitration, or other litigation, to the extent necessary to identify the individual, inform the source of the purpose(s) of the request, and identify the type of information requested.

16. To disclose information to a Federal agency, in response to its request, in connection with hiring or retaining an employee, issuing a security clearance, conducting a security or suitability investigation of an individual, or classifying jobs, to the extent that the information is relevant and necessary to the requesting agency's decision on the matter.

17. To another Federal agency or Federal entity, when information from this system of records is reasonably necessary to assist the recipient agency or entity in (1) responding to a suspected or confirmed breach or (2) preventing, minimizing, or remedying the risk of harm to individuals, the agency (including its information systems, programs, and operations), the Federal Government, or national security.

18. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained in electronic form (including computer databases or discs). Records may also be maintained on back-up tapes, or on a PBGC or a contractor-hosted network.

POLICIES AND PRACTICES FOR RETRIEVAL OF RECORDS:

Information from this system may be retrieved by numerous data elements and key word searches, including, but not limited to name, dates, subject, and other information retrievable with full text searching capability.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

POLICIES AND PRACTICES FOR RETENTION AND DISPOSAL OF RECORDS:

The records in this system of records are covered by National Archives and Records Administration General Records Schedule 5.6, items 210, 220, 230, and 240.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

Pursuant to 5 U.S.C. 552a(k)(2), PBGC has established regulations at 29 CFR 4902.12 that exempt records in this system depending on their purpose.

HISTORY:

PBGC-26, PBGC Insider Threat and Data Loss Prevention (last published at 84 FR 32786 (Jul. 9, 2019)).

SYSTEM NAME AND NUMBER:

PBGC-27: Ensuring Workplace Health and Safety in Response to a Public Health Emergency.

SECURITY CLASSIFICATION:

Unclassified.

SYSTEM LOCATION:

PBGC, 445 12th Street SW, Washington, DC 20024-2101 (Records may be kept at an additional location as backup for Continuity of Operations).

SYSTEM MANAGER(S):

Workplace Solutions Department/Emergency Management, PBGC, 445 12th Street SW, Washington, DC 20024-2101.

AUTHORITY FOR MAINTENANCE OF THE SYSTEM:

General Duty Clause, Section 5(a)(1) of the Occupational Safety and Health (OSH) Act of 1970 (29 U.S.C. 627), Executive Order 12196, Occupational safety and health programs for Federal employees (Feb. 26, 1980)Executive Order 14043, Requiring Coronavirus Disease 2019 Vaccination for Federal Employees (Sep. 14, 2021), Executive Order 14042, Executive Order on Ensuring Adequate COVID Safety Protocols for Federal Contractors (Sep. 9, 2021), and the National Defense Authorization Act For Fiscal Year 2017 (5 U.S.C. 6329c(b)). Information will be collected and maintained in accordance with the Americans with Disabilities Act of 1990 (42 U.S.C. 12101 et seq.)

PURPOSE(S) OF THE SYSTEM:

The information in the system is collected to assist PBGC with maintaining a safe and healthy workplace and to protect PBGC staff working on-site from risks associated with a public health emergency (as defined by the U.S. Department of Health and Human Services and declared by its Secretary), such as a pandemic or epidemic.

CATEGORIES OF INDIVIDUALS COVERED BY THE SYSTEM:

Individuals covered by this system include PBGC staff (e.g., political appointees, employees, detailees, contractors, consultants, interns, and volunteers) and visitors to a PBGC facility during a public health emergency, such as a pandemic or epidemic.

CATEGORIES OF RECORDS IN THE SYSTEM:

This system maintains information collected about PBGC staff and visitors accessing PBGC facilities during a public health emergency, including a pandemic or epidemic. It maintains biographical information collected about PBGC staff and visitors that includes, but is not limited to, their name, contact information, or whether they are in a high-risk category. It maintains health information collected about PBGC staff that includes, but is not limited to, temperature checks, test results, dates, symptoms, and potential or actual exposure to a pathogen. It maintains health information collected about building visitors, that includes, but is not limited to, temperature checks, test results, dates, symptoms, and potential or actual exposure to a pathogen. It maintains information collected about PBGC staff and visitors to a PBGC facility necessary to conduct contact tracing that includes, but is not limited to, the dates when they visited the facility, the locations that they visited within the facility (e.g., office and cubicle number), the duration of time spent in the facility, whether they may have potentially come into contact with a contagious person while visiting the facility, travel dates and locations, and a preferred contact number. It maintains information about emergency contacts for PBGC staff that includes, but is not limited to, the emergency contact's name, phone number, and email address.

RECORD SOURCE CATEGORIES:

The information in this system is collected in part directly from the individual or from the individual's emergency contact. Information is also collected from human resources systems, emergency notification systems, and Federal, state, and local agencies assisting with the response to a public health emergency. Information may also be collected from property management companies responsible for managing office buildings that house PBGC facilities including security systems monitoring access to PBGC facilities, video surveillance, and access control devices.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. To a Federal, state, or local agency to the extent necessary to comply with laws governing reporting of infectious disease;

2. To PBGC staff member's emergency contact for purposes of locating a staff member during a public health emergency;

3. To federal contractors performing physical security and/or access control duties at PBGC facilities.

4. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

5. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

6. With the approval of the Director, Human Resources Department (or his or her designee), the fact that this system of records includes information relevant to a Federal agency's decision in connection with the hiring or retention of an employee, the retention of a security clearance, the letting of a contract, or the issuance of a license, grant, or other benefit may be disclosed to that Federal agency.

7. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use is compatible with the purpose for which PBGC collected the information.

8. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

9. A record from this system of records may be disclosed to OMB in connection with the review of private relief legislation as set forth in OMB Circular No. A-19 at any stage of the legislative coordination and clearance process as set forth in that Circular.

10. A record from this system of records may be disclosed to a congressional office in response to an inquiry from the congressional office made at the request of the individual.

11. A record from this system of records may be disclosed to an official of a labor organization recognized under 5 U.S.C. ch. 71 when necessary for the labor organization to properly perform its duties as the collective bargaining representative of PBGC employees in the bargaining unit.

12. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

13. To contractors, experts, consultants, and the agents thereof, and others performing or working on a contract, service, cooperative agreement, or other assignment for PBGC when necessary to accomplish an agency function. Individuals provided information under this routine use are subject to the same Privacy Act requirements and limitations on disclosure as are applicable to PBGC employees.

14. To the National Archives and Records Administration or to the General Services Administration for records management inspections conducted under 44 U.S.C. 2904 and 2906.

15. To any source from which information is requested in the course of processing a grievance, investigation, arbitration, or other litigation, to the extent necessary to identify the individual, inform the source of the purpose(s) of the request, and identify the type of information requested.

16. To disclose information to a Federal agency, in response to its request, in connection with hiring or retaining an employee, issuing a security clearance, conducting a security or suitability investigation of an individual, or classifying jobs, to the extent that the information is relevant and necessary to the requesting agency's decision on the matter.

17. To another Federal agency or Federal entity, when information from this system of records is reasonably necessary to assist the recipient agency or entity in (1) responding to a suspected or confirmed breach or (2) preventing, minimizing, or remedying the risk of harm to individuals, the agency (including its information systems, programs, and operations), the Federal Government, or national security.

18. To another Federal agency or non-Federal entity to compare such records in the agency's system of records or to non-Federal records in coordination with the Office of Inspector General conducting an audit, investigation, inspection, or some other review as authorized by the Inspector General Act, as amended.

POLICIES AND PRACTICES FOR STORAGE OF RECORDS:

Records are maintained manually in paper and/or electronic form, including computer databases, magnetic tapes, and discs. Records are also maintained on PBGC's secure network and back-up tapes.

POLICIES AND PRACTICES FOR RETRIEVAL OF RECORDS:

Records are retrieved by the name of the individual.

POLICIES AND PRACTICES FOR RETENTION AND DISPOSAL OF RECORDS:

Records are maintained in accordance with the General Records Retention Schedules issued by the National Archives and Records Administration (NARA) or a PBGC records disposition schedule approved by NARA. Records existing on paper are destroyed beyond recognition. Records existing on computer storage media are destroyed according to the applicable PBGC media practice Records of emergency contacts for PBGC staff will be maintained in accordance with General Records Schedule 5.3, Items 010: Continuity planning and related emergency planning files; and 020: Employee Emergency Contact Information, which requires that the records be destroyed when superseded or obsolete, or upon separation or transfer of employee. PBGC will work with the National Archives and Records Administration (NARA) to draft and secure approval of a records disposition schedule to cover the remainder of the records described in this SORN. Until this records disposition schedule is approved by NARA, PBGC will maintain, and not destroy, these records.

ADMINISTRATIVE, TECHNICAL, AND PHYSICAL SAFEGUARDS:

PBGC has adopted appropriate administrative, technical, and physical controls in accordance with PBGC's security program to protect the security, integrity, and availability of the information, and to ensure that records are not disclosed to or accessed by unauthorized individuals.

Paper records are kept in file cabinets in areas of restricted access that are locked after office hours. Electronic records are stored on computer networks and protected by assigning user identification numbers to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c).

EXEMPTIONS PROMULGATED FOR THE SYSTEM:

None.

HISTORY:

PBGC-27, Ensuring Workplace Health and Safety in Response to a Public Health Emergency (last published at 87 FR 4668 (Jan. 28,2022)).

SYSTEM NAME AND NUMBER:

PBGC-28: Physical Security and Facility Access.

SECURITY CLASSIFICATION:

Unclassified.

SYSTEM LOCATION:

Pension Benefit Guaranty Corporation (PBGC), 445 12th Street SW, Washington, DC 20024-2101.

SYSTEM MANAGER(S):

Director, Workplace Solutions Department, PBGC, 445 12th Street SW, Washington, DC 20024-2101.

AUTHORITY FOR MAINTENANCE OF THE SYSTEM:

Executive Order 12977; 6 CFR part 37; Homeland Security Presidential Directive (HSPD) 12: Policy for a Common Identification Standard for Federal Employees and Contractors.

PURPOSE(S) OF THE SYSTEM:

The purpose of this system is to maintain information to allow PBGC to provide for its facilities: control of visitor, employee, and government contractor access; physical and operational security; and video surveillance. It can also be used to maintain information from issuing temporary facility access for employees and contractors who are not in possession of their Personal Identity Verification (PIV) card or office key.

CATEGORIES OF INDIVIDUALS COVERED BY THE SYSTEM:

Current PBGC employees, students, interns, government contractors, employees of other agencies, vendors, and other authorized visitors who access PBGC facilities.

CATEGORIES OF RECORDS IN THE SYSTEM:

This system contains records relating to employee and government contractor access, visitor access, and facility security. This includes government Personal Identity Verification (PIV) cards, visitor, contractor, and employee access records, temporary access cards, biometric data, and video surveillance recordings. PIV card records include the following information: name, photo, type of access, employee affiliation, expiration date, activation date, credential serial number to include the full Card Holder Unique Identifier (CHUID), height, eye color, and hair color. Visitor access records include the following information: name, phone number, email address, digital photo, scan of government-issued photo identification, reason for visit, organization name, date and time of visit, floor visited, and temporary visitor badge number or barcode. Employee access records include date and time of room or facility access and fingerprint or other biometric data.

RECORD SOURCE CATEGORIES:

Subject individuals, employees, visitors, contractors, vendors, and others visiting PBGC facilities.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

3. With the approval of the Director, Human Resources Department (or his or her designee), the fact that this system of records includes information relevant to a Federal agency's decision in connection with the hiring or retention of an employee, the retention of a security clearance, the letting of a contract, or the issuance of a license, grant, or other benefit may be disclosed to that Federal agency.

4. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use of the record is compatible with the purpose for which PBGC collected the information.

5. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use of the record is compatible with the purpose for which PBGC collected the information.

6. A record from this system of records may be disclosed to a congressional office in response to an inquiry from the congressional office made at the request of the individual.

7. A record from this system of records may be disclosed to an official of a labor organization recognized under 5 U.S.C. ch. 71 when necessary for the labor organization to properly perform its duties as the collective bargaining representative of PBGC employees in the bargaining unit.

8. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

9. To contractors, experts, consultants, and the agents thereof, and others performing or working on a contract, service, cooperative agreement, or other assignment for PBGC when necessary to accomplish an agency function. Individuals provided information under this routine use are subject to the same Privacy Act requirements and limitations on disclosure as are applicable to PBGC employees.

10. To the National Archives and Records Administration or to the General Services Administration for records management inspections conducted under 44 U.S.C. 2904 and 2906.

11. To any source from which information is requested in the course of processing a grievance, investigation, arbitration, or other litigation, to the extent necessary to identify the individual, inform the source of the purpose(s) of the request, and identify the type of information requested.

12. Records from this system may be disclosed to a third party for purposes of providing access to facilities leased by PBGC or on PBGC's behalf.

13. To another Federal agency or non-Federal entity to compare such records in the agency's system of records or to non-Federal records in coordination with the Office of Inspector General conducting an audit, investigation, inspection, or some other review as authorized by the Inspector General Act, as amended.

14. To another Federal agency or Federal entity, when information from this system of records is reasonably necessary to assist the recipient agency or entity in (1) responding to a suspected or confirmed breach or (2) preventing, minimizing, or remedying the risk of harm to individuals, the agency (including its information systems, programs, and operations), the Federal Government, or national security.

POLICIES AND PRACTICES FOR STORAGE OF RECORDS:

Records are maintained manually in paper and/or electronic form (including computer databases or discs). Records may also be maintained on back-up tapes, or on a PBGC or a third-party physical access control system.

POLICIES AND PRACTICES FOR RETRIEVAL OF RECORDS:

Records are retrieved by any one of the following: employee or contractor name, PIV card number, temporary access card number, access clearance, key number, key removal date and time, visitor name, date and time of visit, organization, name of PBGC personnel escorting the visitor, visitor badge number, and reason for visit.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for physical security and access control systems and will be maintained in accordance with General Records Schedule 5.6 Security Records Items: 010, 021, 100, 111, 120, 121, 130, and 240.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with PIV cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 445 12th Street SW, Washington, DC 20024-2101, or by emailing disclosure@pbgc.gov, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, following the requirements of Record Access Procedure above.

NOTIFICATION PROCEDURES:

Individuals, or third parties with written authorization from the individual, wishing to learn whether this system of records contains information about them should submit a written request to the Disclosure Officer, PBGC, 445 12th Street SW, Washington, DC 20024-2101, or by emailing disclosure@pbgc.gov, providing their name, address, date of birth, and verification of their identity in accordance with 29 CFR 4902.3(c).

EXEMPTIONS PROMULGATED FOR THE SYSTEM:

None.

HISTORY:

PBGC-28, Physical Security and Facility Access (last published at 89 FR 3436 (Jan. 18, 2024)).

SYSTEM NAME AND NUMBER:

PBGC-29: Freedom of Information Act and Privacy Act Request Records.

SECURITY CLASSIFICATION:

Unclassified.

SYSTEM LOCATION:

Pension Benefit Guaranty Corporation (PBGC), 445 12th Street SW, Washington, DC 20024-2101. (Records may be kept at an additional location as backup for continuity of operations at AINS LLC, DBA OPEXUS, 1101 17th St NW #1200, Washington, DC 20036.)

SYSTEM MANAGER(S):

Deputy General Counsel, Office of the General Counsel (OGC), PBGC, 445 12th Street SW, Washington, DC 20024-2101.

AUTHORITY FOR MAINTENANCE OF THE SYSTEM:

5 U.S.C. 552, The Freedom of Information Act (FOIA), and 5 U.S.C. 552a, The Privacy Act of 1974 (PA).

PURPOSE(S) OF THE SYSTEM:

The purpose of this system is to process requests for records made under the provisions of the FOIA and PA, and to assist PBGC in carrying out other responsibilities relating to FOIA and PA including operational, management, and reporting purposes.

CATEGORIES OF INDIVIDUALS COVERED BY THE SYSTEM:

Individuals or their representatives who have submitted FOIA requests, PA requests, or combined FOIA and PA requests for records or information and administrative appeals or have litigation pending with a federal agency; individuals whose requests, appeals or records have been referred to PBGC by other agencies and/or the PBGC personnel assigned to handle such requests, appeals and litigation.

CATEGORIES OF RECORDS IN THE SYSTEM:

Records in the system may contain names, mailing addresses, email addresses and telephone numbers of individuals making requests for records or information pursuant to the FOIA/PA; online identity verification information (User name and password), Universally Unique Identification (UUID), name, and email address from Login.gov for account creation and authentication, and any other information voluntarily submitted, such as an individual's social security number; tracking numbers, correspondence with the requester or the requester's representatives, internal PBGC correspondence and memoranda to or from other agencies or entities having a substantial interest in the determination of the request; responses to the request and appeals, and copies of responsive records. These records may contain personal information retrieved in response to a request. FOIA and PA case records may contain inquiries and requests regarding any of PBGC's other systems of records subject to the FOIA and PA, and information about individuals from any of these other systems may become part of this system of records.

RECORD SOURCE CATEGORIES:

Requesters and persons acting on behalf of requesters, PBGC and other Federal agencies having a substantial interest in the determination of the request, and employees processing the requests.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. To law enforcement in the event the record is connected to a violation or potential violation of law, whether civil, criminal or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. To a Federal, state, tribal or local agency or to another public or private source maintaining civil, criminal, or other relevant enforcement information or other pertinent information if, and to the extent necessary, to obtain information relevant to a PBGC decision concerning the hiring or retention of an employee, the retention of a security clearance, or the letting of a contract.

3. With the approval of the Director, Human Resources Department (or his or her designee), the fact that this system of records includes information relevant to a Federal agency's decision in connection with the hiring or retention of an employee, the retention of a security clearance, the letting of a contract, or the issuance of a license, grant, or other benefit may be disclosed to that Federal agency.

4. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the disclosure of the records to use is compatible with the purpose for which PBGC collected the information.

5. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use is compatible with the purpose for which PBGC collected the information.

6. A record from this system of records may be disclosed to a congressional office in response to an inquiry from the congressional office made at the request of the individual.

7. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

8. To the National Archives and Records Administration or to the General Services Administration for records management inspections conducted under 44 U.S.C. 2904 and 2906.

9. To another Federal agency or Federal entity, when PBGC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. To the extent needed to perform duties under the contract, to third party contractors who are performing or working on a contract in connection with the performance of an IT service or in support of PBGC's Disclosure Division related to this system of records. Recipients of these records shall be required to comply with the requirements of the Privacy Act of 1974, as amended, 5 U.S.C. 552a.

11. To respond to FOIA requests and appeals made through the agencies electronic FOIA and PA request system, including the names of FOIA requesters, dates related to the processing of the request, and a description of the records sought by the requester (excluding any personally identifiable information in the description of the records, such as telephone or cell phone numbers, home or email addresses, social security numbers), unless the requester asks for the redaction of any personally identifiable information (PII). This information may also be used to create a publicly available log of requests;

12. To assist PBGC in making an access determination, a record from this system may be shared with (a) the person or entity that originally submitted the record to the agency or is the subject of the record or information; or (b) another Federal entity;

13. To the National Archives and Record Administration's (NARA), Office of Government Information Services (OGIS), to the extent necessary to fulfill its responsibilities in 5 U.S.C. 552(h), to review administrative agency policies, procedures and compliance with the FOIA, and to facilitate OGIS's offering of mediation services to resolve disputes between persons making FOIA requests and administrative agencies;

14. To the Department of Justice (DOJ), to the Department of the Treasury, or to a consumer reporting agency for collection action for unpaid FOIA fees when circumstances warrant; and,

15. To the Office of Management and Budget (OMB) or the DOJ to obtain advice regarding statutory and other requirements under the FOIA or Privacy Act.

16. To another Federal agency or Federal entity, when information from this system of records is reasonably necessary to assist the recipient agency or entity in (1) responding to a suspected or confirmed breach or (2) preventing, minimizing, or remedying the risk of harm to individuals, the agency (including its information systems, programs, and operations), the Federal Government, or national security.

POLICIES AND PRACTICES FOR STORAGE OF RECORDS:

Records are maintained in electronic databases. Records may also be maintained on back-up tapes, or on a PBGC or a contractor-hosted network.

POLICIES AND PRACTICES FOR RETRIEVAL OF RECORDS:

Records are retrieved by any one or more of the following: Name, subject, request file/tracking number, or other data element as may be permitted by an automated system.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for participant systems and will be maintained in accordance with PBGC Records Schedule. See General Records Schedule (GRS) Items 4.2 Items 001,010, 020, 040, 050, 090. See also PBGC Records Schedule Item 1.2: Administrative Records—Privacy Act.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals. Paper records are kept in file folders in areas of restricted access that are locked after office hours.

Electronic records are stored on computer networks, which may include cloud-based systems, and protected by controlled access with Personal Identity Verification (PIV) cards, assigning user accounts to individuals needing access to the records and by passwords set by authorized users that must be changed periodically. Further, for certain systems covered by this notice, heightened security access is required. Such access is granted by the specific permissions group assigned to monitor that particular system and only authorized employees of the agency may retrieve, review or modify those records. All employees are annually required to agree to and comply with PBGC's Rules of Behavior with respect to PBGC's IT systems and PII.

RECORD ACCESS PROCEDURES:

Individuals, or third parties with written authorization from the individual, wishing to request access to their records in accordance with 29 CFR 4902.4, should submit a written request to the Disclosure Officer, PBGC, 445 12th Street SW, Washington, DC 20024-2101, providing their name, address, date of birth, and verification of their identity in accordance with 29 CFR 4902.3(c), or via PBGC's online FOIA/PA system the link to which is located at https://www.pbgc.gov/about/pg/footer/foia. Individuals or third parties will be required to provide information to verify their identity when making a request.

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, providing their name, address, date of birth, and verification of their identity in accordance with 29 CFR 4902.3(c), or via PBGC's online FOIA/PA system the link to which is located at https://www.pbgc.gov/about/pg/footer/foia. Individuals or third parties will be required to provide information to verify their identity when making a request.

EXEMPTIONS PROMULGATED FOR THE SYSTEM:

To the extent that copies of exempt records from other systems of records are entered into this system, PBGC claims the same exemptions for those records that are claimed for the original primary systems of records from which they originated.

HISTORY:

PBGC-29: Freedom of Information Act and Privacy Act Request Records—PBGC (last published at 88 FR 41663 (Jun. 27, 2023)).

SYSTEM NAME AND NUMBER:

PBGC-30: Surveys and Complaints.

SECURITY CLASSIFICATION:

Unclassified.

SYSTEM LOCATION:

Pension Benefit Guaranty Corporation (PBGC), 445 12th Street SW, Washington, DC 20024-2101. (Records may be kept at an additional location of the commercial service provider of Qualtrics, 333 W. River Park Drive Provo, UT 84604, in the Amazon Web Services Government Commercial Cloud).

SYSTEM MANAGER(S):

Office of the General Counsel (OGC), PBGC, 445 12th Street SW, Washington, DC 20024-2101.

AUTHORITY FOR MAINTENANCE OF THE SYSTEM:

29 U.S.C. 1055, 1056(d)(3), 1302, 1303, 1310, 1321, 1322a, 1341, 1342, 1343, 1350; 1431, and 1432; 5 U.S.C. 301; 44 U.S.C. 3101 et seq.

PURPOSE(S) OF THE SYSTEM:

The purpose of this system of records is for all departments at PBGC to elicit feedback through surveys and respond to complaints PBGC receives from communications contained within them. This includes a process for tracking, receiving, and responding to surveys, complaints, concerns, or questions from individuals about the organizational security and privacy practices. Names, addresses, and telephone numbers are used to survey customers to measure their satisfaction with PBGC's services and to track (for follow-up) those who do not respond to surveys. De-identified, aggregated information from this system may be used for research and statistical purposes.

CATEGORIES OF INDIVIDUALS COVERED BY THE SYSTEM:

Individuals who access a website operated by or on behalf of PBGC; and individuals who are the subject of or are otherwise connected to an inquiry, investigation, or complaint concerning PBGC's privacy or cybersecurity programs.

CATEGORIES OF RECORDS IN THE SYSTEM:

Responses to individual survey questions or complaint forms; IP addresses; cookies (session and persistent); email communications; and information pertaining to the individual's complaint such as their name, email address, phone number, and details about their experience using a PBGC website or their complaint.

RECORD SOURCE CATEGORIES:

Subject individuals; pension plan participants, sponsors, administrators and third parties; current and former employees or contractors.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. A record from this system may be disclosed to law enforcement in the event the record is connected to a violation or potential violation of law, whether civil, criminal, or regulatory in nature, and whether arising by general statute, regulation, rule, or order issued pursuant thereto. Such disclosure may be made to the appropriate agency, whether Federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

2. A record from this system of records may be disclosed to a Federal, state, tribal or local agency or to another public or private source maintaining civil, criminal, or other relevant enforcement information or other pertinent information if, and to the extent necessary, to obtain information relevant to a PBGC decision concerning the hiring or retention of an employee, the retention of a security clearance, or the letting of a contract.

3. A record from this system of records may be disclosed in a proceeding before a court or other adjudicative body in which PBGC, an employee of PBGC in his or her official capacity, an employee of PBGC in his or her individual capacity whom PBGC (or the Department of Justice (DOJ)) has agreed to represent is a party, or the United States or any other Federal agency is a party and PBGC determines that it has an interest in the proceeding, and if PBGC determines that the record is relevant and necessary to the litigation and that the use of the record is compatible with the purpose for which PBGC collected the information.

4. When PBGC, an employee of PBGC in his or her official capacity, or an employee of PBGC in his or her individual capacity whom PBGC (or DOJ) has agreed to represent is a party to a proceeding before a court or other adjudicative body, or the United States or any other Federal agency is a party and PBGC determines that it has an interest in the proceeding, a record from this system of records may be disclosed to DOJ if PBGC is consulting with DOJ regarding the proceeding or has decided that DOJ will represent PBGC, or its interest, in the proceeding and PBGC determines that the record is relevant and necessary to the litigation and that the use of the record is compatible with the purpose for which PBGC collected the information.

5. A record from this system of records may be disclosed to OMB in connection with the review of private relief legislation as set forth in OMB Circular No. A-19 at any stage of the legislative coordination and clearance process as set forth in that Circular.

6. A record from this system of records may be disclosed to a congressional office in response to an inquiry from the congressional office made at the request of the individual.

7. A record from this system of records may be disclosed to an official of a labor organization recognized under 5 U.S.C. ch. 71 when necessary for the labor organization to properly perform its duties as the collective bargaining representative of PBGC employees in the bargaining unit.

8. A record from this system of records may be disclosed to appropriate agencies, entities, and persons when (1) PBGC suspects or has confirmed that there has been a breach of the system of records; (2) PBGC has determined that as a result of the suspected or confirmed breach there is a risk of harm to individuals, PBGC (including its information systems, programs and operations), the Federal Government, or national security; and (3) the disclosure made to such agencies, entities, and persons is reasonably necessary to assist in connection with PBGC's efforts to respond to the suspected or confirmed breach or to prevent, minimize, or remedy such harm.

9. To contractors, experts, consultants, and the agents thereof, and others performing or working on a contract, service, cooperative agreement, or other assignment for PBGC when necessary to accomplish an agency function. Individuals provided information under this routine use are subject to the same Privacy Act requirements and limitations on disclosure as are applicable to PBGC employees.

10. To the National Archives and Records Administration or to the General Services Administration for records management inspections conducted under 44 U.S.C. 2904 and 2906.

11. To any source from which information is requested in the course of processing a grievance, investigation, arbitration, or other litigation, to the extent necessary to identify the individual, inform the source of the purpose(s) of the request, and identify the type of information requested.

12. To Another Agency or Non-Federal Entity in Connection with an OIG Audit, Investigation, or Inspection: To another Federal agency or non-Federal entity to compare such records in the agency's system of records or to non-Federal records in coordination with the Office of Inspector General conducting an audit, investigation, inspection, or some other review as authorized by the Inspector General Act, as amended.

13. To another Federal agency or Federal entity, when information from this system of records is reasonably necessary to assist the recipient agency or entity in (1) responding to a suspected or confirmed breach or (2) preventing, minimizing, or remedying the risk of harm to individuals, the agency (including its information systems, programs, and operations), the Federal Government, or national security.

POLICIES AND PRACTICES FOR STORAGE OF RECORDS:

Records are maintained in electronic databases. Records may also be maintained on back-up tapes, or on a PBGC or a contractor-hosted network.

POLICIES AND PRACTICES FOR RETRIEVAL OF RECORDS:

Indexing surveys and complaints will be determined by individual system implementations, but records are generally indexed by a generic, sequential survey or complaint record identifier. Records may be indexed by a combination of survey responses and contact information that is voluntarily provided through the survey or complaint form.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition. Records existing on computer storage media are destroyed according to the applicable PBGC media practice for systems that leverage this SORN and will be maintained in accordance with PBGC Records Schedule. See General Records Schedule (GRS) Items 6.5.010 and 6.5.020: Public Customer Service Records; See also GRS 6.5.010: Complaints-Customer Service; see also GRS Items 4.2.06; Privacy complaint files. See also PBGC Records Schedule Item 1.2: Administrative Records—Privacy Act.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals. Paper records are kept in file folders in areas of restricted access that are locked after office hours.

Electronic records are stored on computer networks, which may include cloud-based systems, and protected by controlled access with Personal Identity Verification (PIV) cards, assigning user accounts to individuals needing access to the records and by passwords set by authorized users that must be changed periodically. Further, for certain systems covered by this notice, heightened security access is required. Such access is granted by the specific permissions group assigned to monitor that particular system and only authorized employees of the agency may retrieve, review or modify those records.

RECORD ACCESS PROCEDURES:

Individuals, or third parties with written authorization from the individual, wishing to request access to their records in accordance with 29 CFR 4902.4, should submit a written request to the Disclosure Officer, PBGC, 445 12th Street SW, Washington, DC 20024-2101, or by emailing disclosure@pbgc.gov, providing their name, address, date of birth, and verification of their identity in accordance with 29 CFR 4902.3(c).

CONTESTING RECORD PROCEDURES:

Individuals, or third parties with written authorization from the individual, wishing to amend their records must submit a written request, in accordance with 29 CFR 4902.5, identifying the information they wish to correct in their file, in addition to following the requirements of the Record Access Procedure above.

NOTIFICATION PROCEDURES:

Individuals, or third parties with written authorization from the individual, wishing to learn whether this system of records contains information about them should submit a written request to the Disclosure Officer, PBGC, 445 12th Street SW, Washington, DC 20024-2101, or by emailing disclosure@pbgc.gov, providing their name, address, date of birth, and verification of their identity in accordance with 29 CFR 4902.3(c).

EXEMPTIONS PROMULGATED FOR THE SYSTEM:

None.

HISTORY:

PBGC-30: Surveys and Complaints—PBGC (last published at 89 FR 3436 (Jan. 18, 2024)).

[FR Doc. 2024-19638 Filed 9-6-24; 8:45 am]

BILLING CODE 7709-02-P